DEPARTMENT OF EDUCATION

34 CFR Parts 655, 656, and 657

RIN 1840-AD94

[Docket ID ED-2024-OPE-0017]

National Resource Centers Program and Foreign Language and Area Studies Fellowships Program

AGENCY: Office of Postsecondary Education, Department of Education.

ACTION: Notice of proposed rulemaking.

SUMMARY: The Secretary proposes to amend the regulations that govern the National Resource Centers (NRC) Program, Assistance Listing Number 84.015A, and the Foreign Language and Area Studies (FLAS) Fellowships Program, Assistance Listing Number 84.015B. The proposed regulations would clarify interpretations of statutory language, redesign the selection criteria, and make necessary updates based upon program management experience. These proposed changes would remove ambiguity and redundancy in the selection criteria and definitions of key terms, improve the application process, and align the administration of these programs with developments in modern foreign language and area studies education. A brief summary of the proposed rule is available on Regulations.gov in the docket for the rulemaking.

DATES: We must receive your comments on or before March 25, 2024.

ADDRESSES: Comments must be submitted via the Federal eRulemaking Portal at Regulations.gov. However, if you require an accommodation or cannot otherwise submit your comments via Regulations.gov, please contact the program contact person listed under FOR FURTHER INFORMATION CONTACT. The Department will not accept comments after the comment period closes. To ensure that the Department does not receive duplicate copies, please submit your comments only once. Additionally, please include the Docket ID at the top of your comments.

Federal eRulemaking Portal: Go to www.regulations.gov to submit your comments electronically. Information on using Regulations.gov, including instructions for accessing agency documents, submitting comments, and viewing the docket, is available on the site under “FAQ.”

Note: The Department's policy is generally to make comments received from members of the public available for public viewing on the Federal eRulemaking Portal at www.regulations.gov. Therefore, commenters should be careful to include in their comments only information that they wish to make publicly available. Commenters should not include in their comments any information that identifies other individuals or that permits readers to identify other individuals. The Department will not make comments that contain personally identifiable information about someone other than the commenter publicly available on www.regulations.gov for privacy reasons. Therefore, commenters should be careful to include in their comments only information that they wish to make publicly available.

FOR FURTHER INFORMATION CONTACT: Tim Duvall, U.S. Department of Education, 400 Maryland Ave. SW, Room 5C105, Washington, DC 20202. Telephone: (202) 987-0383. Email: timothy.duvall@ed.gov.

If you are deaf, hard of hearing, or have a speech disability and wish to access telecommunications relay services, please dial 7-1-1.

SUPPLEMENTARY INFORMATION:

Executive Summary

Purpose of this Regulatory Action: The regulations for the NRC and FLAS programs were last revised in 2009 (74 FR 35070) and were impacted by subsequent technical corrections made to 34 CFR part 655, International Education Programs—General Provisions, adopted in 2014 (79 FR 75867). Because these regulations provide the foundation for the administration of these programs, we have reviewed them, evaluated them for provisions that, over time, have become outdated, unnecessary, or inconsistent with other Department regulations as well as with established practices for administering these programs in the Department, and identified ways in which they can be updated, streamlined, and otherwise improved. Specifically, we propose to amend parts 655, 656, and 657 of title 34 of the Code of Federal Regulations. These changes are detailed in the Summary of Major Provisions of this Regulatory Action.

Summary of Major Provisions of this Regulatory Action: As discussed in greater detail in the Summary of Proposed Regulations section of this document, the proposed regulations would:

• Make technical updates to refer to up-to-date statutory authorities, remove outdated terminology, use consistent references, and eliminate obsolete cross-references.

• Clarify and streamline the selection criteria the Secretary may use to make discretionary awards under parts 656 and 657.

• Add new selection criteria the Secretary may use to make discretionary grants for special purposes under part 656.

• Add definitions for ambiguous terms related to program administration, including “areas of national need” and “diverse perspectives.”

• Add a requirement for a geographical area of focus for discretionary grants made under parts 656 and 657.

• Clarify the differences between comprehensive and undergraduate National Resource Centers for Foreign Language and Area Studies.

• Add a student eligibility requirement for fellowships awarded under part 657 based upon a student's educational program.

• Simplify the administration of allocations of fellowships made under part 657 by eliminating the institutional payment as a component of fellowships and allowing fellows to receive a single stipend payment.

Costs and Benefits: The Department believes that the benefits of this regulatory action would outweigh any associated costs to States, local educational agencies (LEAs), colleges and universities, and other Department applicants and grantees. The proposed regulations would, in part, update terminology to align with applicable statutes and regulations. Many of the adjustments would support the Department, its grantees, or both, in selecting high-quality grantees and to support those grantees in ensuring the effectiveness and improvement of their projects. These changes include, for example, altering selection criteria to allow for a more efficient and effective peer review process, as announced in a notice inviting applications (NIA), and adding and clarifying definitions that apply to the programs affected so that peer reviewers and applicants have a better sense of how application reviews are conducted. Please refer to the Regulatory Impact Analysis section of this document for a more detailed discussion of costs and benefits.

Invitation to Comment: We invite you to submit comments regarding the proposed regulations. To ensure that your comments have maximum effect in developing the final regulations, we urge you to clearly identify the specific section of the proposed regulations that each of your comments addresses and to arrange your comments in the same order as the proposed regulations.

We also invite you to assist us in complying with the specific requirements of Executive Orders 12866, 13563, and 14094 and their overall requirement of reducing regulatory burden that might result from the proposed regulations. Please let us know of any further ways we could reduce potential costs or increase potential benefits while preserving the effective and efficient administration of the Department's programs and activities. The Department also welcomes comments on any alternative approaches to the subjects addressed in the proposed regulations.

During and after the comment period, you may inspect public comments about the proposed regulations by accessing Regulations.gov.

Assistance to Individuals with Disabilities in Reviewing the Rulemaking Record: On request, we will provide an appropriate accommodation or auxiliary aid to an individual with a disability who needs assistance to review the comments or other documents in the public rulemaking record for the proposed regulations. To schedule an appointment for this type of accommodation or auxiliary aid, please contact the person listed under FOR FURTHER INFORMATION CONTACT.

Background

Programs authorized under title VI of the Higher Education Act of 1965, as amended (HEA), build institutional capacity for training and research in modern foreign languages and area studies; promote access to international and foreign language knowledge; respond to the ongoing national need for individuals with expertise and competence in world languages and area studies; advance national security by developing a pipeline of highly trained experts in critical world regions who are proficient in a large number of diverse modern foreign languages, especially but not limited to less commonly taught languages; and contribute to developing a globally competent multilingual and multicultural workforce able to engage with people in the United States and around the world.

The NRC Program and the FLAS Fellowships Program are the two largest programs funded under title VI of the HEA. The NRC Program provides grants to institutions of higher education (IHE) and consortia of IHEs to establish, strengthen, and operate comprehensive and undergraduate foreign language and area studies centers. These centers serve as centers of excellence for training and teaching in any modern foreign language, research, and instruction in fields needed to provide full understanding of areas, regions, or countries where the languages are commonly used. See 34 CFR part 656; 20 U.S.C. 1122(a)(1). The FLAS Fellowships Program awards allocations of fellowships, through IHEs or consortia of IHEs, to meritorious students enrolled in programs that offer performance-based instruction in world languages in combination with area studies, international studies, or the international aspects of professional studies. See 34 CFR part 657; 20 U.S.C. 1122(b)(1). Both programs share a common focus on modern foreign language and area studies education.

The regulations for these programs were last revised in 2009 (74 FR 35070) and were impacted by subsequent technical corrections made to 34 CFR part 655, International Education Programs—General Provisions, adopted in 2014 (79 FR 75867). We propose to amend the regulations that govern the NRC Program and the FLAS Fellowships Program, and to make related amendments and technical corrections to 34 CFR part 655. The proposed changes would clarify interpretations of statutory language, redesign the selection criteria, and make necessary updates based upon program management experience. The proposed regulations would remove ambiguity and redundancy in the selection criteria and definitions of key terms, improve the application process, and align the administration of these programs with developments in modern foreign language and area studies education.

Selection Criteria and Application Process. Over many grant cycles, administering the NRC and FLAS grant competitions using the current selection criteria has been unwieldy and burdensome for both applicants and peer reviewers. The Secretary proposes changes to the selection criteria that would clarify selection criteria, eliminate redundant criteria, reduce the burden on applicants and peer reviewers, and improve alignment with the statute, particularly with regard to comprehensive and undergraduate Centers. The Secretary proposes reducing the comprehensive NRC selection criteria from 10 criteria with 27 sub-criteria to six criteria with 24 sub-criteria; the undergraduate NRC selection criteria from 10 criteria with 26 sub-criteria to six criteria with 24 sub-criteria; and the FLAS selection criteria from nine criteria with 22 sub-criteria to six criteria with 22 sub-criteria. The proposed criteria include some new criteria for the NRC Program, including a “quality of existing academic programs” criterion, and also for FLAS, including “project design and rationale” and “project planning and budget” criteria.

Definitions. The Secretary proposes, to remain current with standards in the fields of language and area studies, to add and remove definitions in 34 CFR part 655, including defining “areas of national need” and “consultation on areas of national need” to better align the programs with the statute. The Secretary also proposes adding, among others, definitions of (a) “educational program abroad” and “diverse perspectives” to part 655, and (b) add a definition of “stipend” to the FLAS regulations in part 657. These proposed definitions would clarify concepts that have proven to be opaque or absent during the application and administration phases of these grants.

Alignment with the statute. The Secretary proposes to amend the regulations to align them more closely with the statute and with accepted grant administrative practices. The NRC Program is intended to operate as a national network of centers to advance foreign language and area studies knowledge and expertise. NRCs work together and separately toward a common national goal of providing resources for teaching, training, and research relating to foreign languages and area studies. The proposed changes would highlight this common national goal and renew emphasis on the importance of less commonly taught languages to the NRC Program. The proposed changes would also clarify the expectation that all centers should have a geographically defined focus, which helps centers align their activities with areas of national need identified by the Secretary and the statute's mandated consultation on national need for foreign language and area studies knowledge and expertise. The proposed changes would draw a clear distinction between undergraduate and comprehensive NRCs and clarify the role that each type of center plays in the NRC network. Finally, the proposed changes, among other things, would clarify student eligibility, include a student's educational program as a relevant criterion for determining FLAS fellowship eligibility, and define “distance education.”

Summary of Proposed Regulations

We discuss substantive issues under the sections of the proposed regulations to which they pertain. Generally, we do not address proposed regulatory provisions that are technical or otherwise minor in effect.

Part 655

Section 655.4 What definitions apply to the International Education Programs?

Statute: Sections 601 through 613 of the HEA (20 U.S.C. 1121-1130b) provide authority for defining terms necessary for the implementation of the International Education Programs.

Current Regulations: Section 655.4 sets forth definitions for the International Education Programs, including the NRC Program and FLAS Fellowships Program.

Proposed Regulation: The definitions in § 655.4 apply to all International Education Programs, including but not limited to NRC Program and FLAS Fellowships Program. Proposed § 655.4 would add new definitions, consolidate current definitions that apply to multiple International Education Programs, and remove one term. Specifically, the Department proposes to add a definition of “consultation on areas of national need,” based on the process outlined in the statute, as well as a definition of “areas of national need.” We also propose a definition of “diverse perspectives.” Additional proposed changes would relocate and centralize definitions such as “area studies” and “intensive language instruction” that were previously defined in the context of the NRC Program. The proposed changes would incorporate definitions for “educational program abroad” from section 631 of the HEA. The proposed changes incorporate definitions for “academic engagement,” “clock hour,” “correspondence course,” “credit hour,” “distance education,” “educational program,” “enrolled,” full-time student,” “graduate or professional student,” “half-time student,” “National level,” “regular student,” and “undergraduate student” from §§ 600.2 and 668.2. Finally, the proposed changes would remove the definition of “critical languages” from § 655.4.

Reasons: The Department proposes to remove the definition of “critical languages” in current § 655.4, which was based on a separate statute (the Education for Economic Security Act). The proposed definitions of “areas of national need” and “consultation on areas of national need are tied more closely to the language and goals of the program statute. The Department believes application of these definitions would, as a practical matter, acknowledge the statutorily required consultation process is sufficient to identify languages that could be identified as “areas of national need.” A list of languages created through this process would be substantially the same as or identical to the updated list of “critical languages” required by current § 655.4, eliminating the need for development of a separate list of critical languages under current § 655.4.

The new definitions generally would acknowledge the Secretary's ability to identify relevant national needs and emphasize the importance of the consultation process, as well as establishing a single common term (“consultation on areas of national need”) to be used in the implementation of the International Education Programs. This would reduce the potential for confusion and improve the efficiency of program implementation. The proposed definition of “consultation on areas of national need” also would assist and provide additional clarity to NRC Program and FLAS Fellowship Program applicants when completing their required assurances related to national needs, which would assist the Secretary in identifying the relevant “areas of national need.” As noted above, because “consultation on areas of national need” is statutorily required for the grant programs funded under title VI of the HEA, which include the NRC Program and the FLAS Fellowship program, see HEA § 601(c), adopting and applying that term would be more directly tailored to the activities of the grant programs authorized under title VI than is the current concept of “critical languages,” which is based on a different statute (the Education for Economic Security Act (Pub. L. 98-377) and also is used in HEA programs outside title VI.

The Department proposes a definition of “diverse perspectives” to clarify the statutory requirement in section 602 of the HEA that “activities funded by the grant will reflect diverse perspectives[,]” emphasizing the relevance of a variety of viewpoints in understanding world regions. The proposed change would reduce ambiguity by introducing a standard interpretation and improve the efficiency of program implementation.

The relocation of definitions for the terms “area studies,” “intensive language instruction,” and “educational program abroad” would provide standard definitions applicable to all International Education Programs. The proposed changes would standardize the use of terms that apply to postsecondary education generally, by adding references to other parts of title 34 that are also authorized by the HEA. Specifically, the incorporation of terms defined in §§ 600.2 and 668.2 would provide a shared set of terms that would more closely align implementation of the International Education Programs with implementation of the HEA.

Section 655.31 What general selection criteria does the Secretary use?

Statute: Sections 601 through 607 of the HEA (20 U.S.C. 1121-1127) provide authority for establishing general selection criteria necessary for the implementation of the International Education Programs.

Current Regulations: Section 655.31(e)(2)(i) sets forth the factors the Secretary considers as part of the “adequacy of resources” selection criterion, specifically whether the facilities the applicant plans to use in carrying out its proposed project, “other than library,” are adequate.

Proposed Regulation: Proposed § 655.31(e)(2)(i) would expand the types of facilities that may be considered when evaluating this selection criterion to include libraries.

Reasons: The proposed change would not specifically exclude any type of facility when assessing the adequacy of an applicant's resources, so an applicant would be able to address the adequacy of library facilities if these facilities were relevant to the proposed project. The proposed wording would recognize that libraries increasingly fulfill a diverse set of functions at IHEs in support of teaching, research, and engagement. In addition to housing various collections and information professionals, libraries frequently are the sites where specialized information technology, media production facilities, and other resources are located.

Part 656

Statute: 20 U.S.C. 1122.

Current Regulations: Part 656 contains the regulations for the NRC Program, titled “National Resource Centers Program for Foreign Language and Area Studies or Foreign Language and International Studies.”

Proposed Regulation: The Department proposes to replace part 656 in its entirety due to the number of necessary changes and the accompanying need to reorganize this part to improve readability. We propose to combine sections that address similar topics, and to eliminate duplicative or contradictory paragraphs. We propose to rename part 656 as “National Resource Centers Program for Foreign Language and Area Studies” to align more closely with the headings in 20 U.S.C. 1122 and 1122(a), which do not include “international studies.”

Reasons: As described in more detail in each of the following sections related to part 656, these changes would allow the Department to substantially revise the selection criteria and application processes for the NRC Program, introduce new definitions, revise or eliminate existing definitions, align the regulations with the statute, and reduce the burden associated with the NRC Program.

Section 656.1 What is the purpose of the National Resource Centers Program?

Statute: Section 602(a)(1)(B) of the HEA (20 U.S.C. 1122(a)(1)(B)) provides that centers and programs awarded grants are national resources for teaching modern foreign languages as well as for related research and instruction in other academic fields. Sections 601(a)(4) and (b)(1)(C) of the HEA (20 U.S.C. 1121(a)(4) and (b)(1)(C)) specifically mention the importance of less commonly taught languages for programs authorized under title VI of the HEA. These sections also highlight the importance of enhancing the capacity of IHEs in the United States to train experts in modern foreign language and area studies and produce research based upon such expertise.

Current Regulation: Section 656.1 describes the purpose of the NRC Program.

Proposed Regulation: We propose to expand the introductory language to § 656.1 to require Centers to act cooperatively as national resources to carry out program purposes. We also propose to expand the portion of the program description regarding resources for teaching to emphasize less commonly taught languages.

Reasons: The Nation's security, stability, and economic vitality depend upon the existence of experts in the United States who enable robust research and training at IHEs. The NRC Program exists to ensure that institutional capacity at IHEs in the United States meets or exceeds this threshold. Emphasizing less commonly taught languages would signal that the NRC Program supports the development and maintenance of such capacity for all world areas, all modern foreign languages, and all academic disciplines at all times. Given the unpredictability of world events, this broad-based support ensures that a pool of experts and knowledgeable individuals are prepared to face any threats and take advantage of any opportunities that require knowledge of modern foreign languages and area studies topics and approaches.

The proposed changes also would add that the NRC Program anticipates that grantees will act cooperatively as a network of IHEs that jointly serve as national resources for teaching, training, and research related to modern foreign languages and area studies. The proposed wording would emphasize the core identity and sense of purpose that NRCs share. The proposed change would not alter eligibility criteria for the NRC Program.

Despite the competitive nature of discretionary grants, the NRC Program is intended to build institutional capacity that broadly benefits the United States after the end of a single grant period. This effect is magnified when NRCs engage in joint activities, form partnerships, and build linkages to one another and to other postsecondary institutions in the United States. This approach ensures that a wide range of IHEs can contribute to meeting national needs related to modern foreign language and area studies identified by Federal agencies and other needs in the education, business, and nonprofit sectors.

Section 656.2 What entities are eligible to receive a grant?

Statute: Section 602(a)(1)(A) of the HEA (20 U.S.C. 1122(a)(1)(A)) authorizes the Secretary to make grants to institutions of higher education or consortia of such institutions. Section 602(a)(3)-(4) of the HEA (20 U.S.C. 1122(a)(3)-(4)) authorizes the Secretary to make additional grants to centers for specific purposes, such as maintaining important library collections.

Current Regulation: Section 656.2 states that an IHE or a consortium of IHEs is eligible to receive a grant under the NRC Program, but this section does not specifically address the eligibility for additional grants authorized by 20 U.S.C. 1122(a)(3)-(4).

Proposed Regulation: We propose to amend the eligibility criteria in § 656.2 to clarify that only an IHE or a consortium of IHEs that has received a grant under part 656 as either a comprehensive Center or undergraduate Center is eligible to receive a grant for the purposes described in 20 U.S.C. 1122(a)(3)-(4).

Reasons: The current regulation does not address the eligibility criteria for additional grants authorized by 20 U.S.C. 1122(a)(3)-(4), which are for maintaining library collections, and for conducting outreach and summer institutes, respectively. This creates ambiguity regarding the appropriate recipients of these grants. The proposed regulation would clarify that eligibility for these additional grants is limited to National Resource Centers, which accurately reflects the statute's characterization of these grants as additional or special purpose grants for Centers, to carry out specific activities in addition to those already part of the Center's funded project.

Section 656.3 What defines a comprehensive or undergraduate National Resource Center?

Statute: Section 631(a)(2) of the HEA (20 U.S.C. 1132(a)(2)) defines “comprehensive foreign language and area or international studies center.” Section 631(a)(10) of the HEA (20 U.S.C. 1132(a)(10)) defines “undergraduate foreign language and area or international studies center.” Under 20 U.S.C. 1127(b), the Secretary must set specific selection criteria to attain the objectives of the two types of centers, including the degree to which the activities of centers and programs address the national needs built into these definitions.

Current Regulation: Section 656.7 contains definitions for comprehensive and undergraduate Centers based on most, but not all, of the comparable definitions in 20 U.S.C. 1132(a)(2) and (a)(10). Section 656.7 states that Centers provide training at the undergraduate level and that comprehensive Centers provide graduate and professional training in addition to undergraduate training. Section 656.3 lists specific activities that define all National Resource Centers based on the allowable activities for all centers in 20 U.S.C. 1122(a)(2).

Proposed Regulation: The Department proposes to consolidate multiple current sections into proposed § 656.3, require all centers to adopt a geographically defined area of focus, and more completely define comprehensive and undergraduate Centers based on 20 U.S.C. 1132(a).

Reasons: The proposed approach would more clearly highlight the distinct purposes of the two Center types and more closely align with the statutory language. The definitional requirements for the two types of centers would address similar topics in a parallel format, while aligning with the distinct purpose of each type of Center and the different capacities of the IHEs likely to host these centers. Both types of Centers would still be required to engage in activities associated with the selection criteria described in 20 U.S.C. 1127(b). These activities include, among others, the generation and dissemination of information to the public, which is more commonly described as outreach.

The current approach accurately highlights many similarities between the two types of Centers but omits certain statutory differences and does not adequately distinguish the distinct purposes of these types of Centers. For example, current § 656.3(f) states that both comprehensive and undergraduate Centers must employ faculty who engage in training and research relevant to the center's focus. The statutory definition of “comprehensive Centers” in 20 U.S.C. 1132(a)(2) is more precise, however, requiring comprehensive Centers to employ a critical mass of scholars related to a geographic concentration. Similarly, current § 656.3(e) prescribes that comprehensive and undergraduate Centers both have important library collections. However, the statute imposes this requirement only on comprehensive Centers (20 U.S.C. 1132(a)(2)), while requiring in section 1132(a)(10) that an undergraduate Center maintain library collections sufficient to support undergraduate education.

Current §§ 656.3 and 656.4 also omit certain statutory requirements that further clarify the respective roles of comprehensive and undergraduate Centers. For example, these sections do not clearly identify undergraduate Centers' contribution to the national interest by serving as a source of graduates who matriculate into advanced language and area studies programs. See 20 U.S.C. 1132(a)(10). These sections also do not mention that, pursuant to 20 U.S.C. 1132(a)(2), comprehensive Centers contribute to the national interest through advanced research and scholarship.

The current regulation allows international studies centers to declare a thematic focus with no geographically defined referent. The proposed regulation would require all Centers to have a geographically defined focus. This change in policy would better support the program purpose. Although 20 U.S.C. 1122(a)(1)(A) authorizes the Secretary to make grants to area studies or international studies and programs, 20 U.S.C. 1122(a)(1)(B)(i)-(iv) states that all centers are expected to serve as resources for both area and international studies. We do not interpret the phrase “area or international studies” as a binary choice in the proposed regulations. Instead, we proposed to interpret the statute as describing the importance that a Center places on area studies relative to international studies such that neither approach could be completely absent from a center.

Area studies and international studies are not mutually exclusive and should be interpreted as mutually reinforcing academic approaches that should be represented to some degree within each Center. According to 20 U.S.C. 1122(a)(1)(B), Centers are expected to be national resources for teaching of any modern foreign language; instruction in fields needed to provide full understanding of areas, regions, or countries in which such language is commonly used; research and training in international studies, and the international and foreign language aspects of professional and other fields of study; and instruction and research on issues in world affairs that concern one or more countries. This portion of the statute suggests that focus on the study of a geographically defined area and international studies are complementary aspects of all centers. In addition, 20 U.S.C. 1122(a)(1)(B)(i)-(ii) clearly articulates the interconnectedness of these characteristics, including a specific relationship between modern foreign languages and the specific places in which those languages are used.

Area studies, as defined in section 1132(a), is a broad concept based on the comprehensive study of specific societies that does not exclude any discipline or approach. The inclusion of societies in this definition complements the program's interest in modern foreign languages and specific places, as articulated in 20 U.S.C. 1122(a)(1)(B)(i)-(ii). International studies approaches complement the specificity of area studies by drawing attention to patterns, trends, and phenomena relevant to understanding the larger context in which societies exist. It is now commonplace for Centers to emphasize interregional and global flows of people, concepts, and objects in their activities, so this proposed change would only emphasize how area studies and international studies offer complementary approaches to instruction, research, and training. This proposed interpretation also aligns with the larger program goals of section 1122(a)(1)(B). That is, even with a geographical focus, Centers would still be required to engage in all these activities to meet the program's purpose, including support for international studies. Centering a geographic world area also would help centers align their activities to the recommendations provided by the “consultation on areas of national need” for expertise in foreign languages and world regions required by 20 U.S.C. 1121(c)(1). A geographically defined focus also would support the Secretary's efforts to distribute funds in a manner that supports the consultation, which necessarily generates recommendations related to specific language and geographically defined world areas rather than themes or topics in international studies.

The importance of a geographically defined focus for Centers also is evident in other portions of the statute. Under 20 U.S.C. 1132(a)(2), a comprehensive Center must employ scholars related to a “geographic concentration” and offer intensive language training in its “area of specialization.” Section 1132(a)(10) expresses an expectation that undergraduate Centers will produce graduates who matriculate into advanced language and area studies programs. Accordingly, requiring a geographically defined area of focus for both comprehensive and undergraduate Centers is not incompatible with the overall purpose of the program. Under the proposed regulations, centers would retain the flexibility to define their geographic area of focus, which may be a traditionally recognized world region, a single country, or another configuration of space that draws attention to world issues, peoples, and any related languages outside the United States.

Section 656.4 For what special purposes may a Center receive an additional grant under this part?

Statute: Section 602(a)(3)-(4) of the HEA (20 U.S.C. 1122(a)(3)-(4)) authorizes the Secretary to make additional grants to centers for specific purposes, such as maintaining important library collections, conducting outreach, and hosting summer institutes.

Current Regulation: Section 656.5(b) allows the Secretary to make additional grants to support linkages, outreach, partnerships, and summer institutes related to the program's purpose, in the context of addressing activities authorized by the statute.

Proposed Regulation: Proposed § 656.4 would be a standalone section addressing the additional grants to centers authorized by 20 U.S.C. 1122(a)(3)-(4) and, consistent with the statute, would include the maintenance of important library collections among the list of permissible purposes for such grants.

Reasons: We believe the creation of a standalone section that addresses additional grants and mirrors the language in 20 U.S.C. 1122(a)(3)-(4) would allow for more efficient administration of the NRC program. The proposed regulation would clarify that these additional grants are for existing centers and any such additional grants also could be used for maintaining appropriate library collections.

Section 656.6 What definitions apply to this program?

Statute: Section 602 of the HEA (20 U.S.C. 1122) authorizes the Secretary to define terms necessary to make grants under the NRC Program.

Current Regulation: Section 656.7 defines several terms relevant to the NRC Program and several terms that relate to multiple programs authorized by title VI of the HEA.

Proposed Regulation: Proposed § 656.6 would define “critical mass of scholars” and clarify the definition of “Center” for purposes of the NRC Program. The proposed regulation also would remove the definitions of “area studies,” “comprehensive Center,” “intensive language instruction,” and “undergraduate Center” all of which would be relocated to part 655.

Reasons: Reducing the number of definitions in proposed § 656.6, and clarifying those that remain, would improve the efficiency of NRC Program administration and reduce the burden on applicants and grantees. Defining the statutory term “critical mass of scholars” would provide guidance to applicants and reduce ambiguity in the regulations. It would also provide substantial flexibility in the describing qualifications, density, and overall significance of scholars.

Proposed § 656.6 also would clarify that a “Center” refers to a grantee under the NRC Program, regardless of its title or organizational form on campus. Grantees (or “centers” for purposes of the NRC Program) are distinct administrative subunits within an IHE.

Finally, terms related to the administration of multiple International Education Programs authorized by title VI of the HEA would be relocated to part 655, which applies to all International Education Programs.

Section 656.7 Severability

Statute: 20 U.S.C. 1122 authorizes the Secretary to define terms necessary to make grants under the NRC Program.

Current Regulations: The current regulations do not address severability.

Proposed Regulation: The proposed regulation would add a severability provision.

Reasons: The Department seeks to clarify its intent that, with regard to severability, each of the regulations in 34 CFR part 656 and its subparts serves one or more important, related, but distinct, purposes. To best serve these purposes, we included this administrative provision in the regulations to make clear that the regulations are designed to operate independently of each other and to convey the Department's intent that the potential invalidity of one provision or any of its subparts should not affect the remainder of the provisions.

Application and Selection Processes (§§ 656.10, 656.11, and 656.20)

Statute: Section 602(e) of the HEA (20 U.S.C. 1122(e)) requires institutions seeking a grant under this program to follow an application process designed by the Secretary.

Current Regulation: Section 656.10 allows an applicant to submit a combined application for the NRC and FLAS programs. Section 656.20 describes which selection criteria are used and how the Department communicates the point values for the selection criteria.

Proposed Regulation: The proposed regulation would update the application and selection process to provide more accurate guidance based on current program management practices. The proposed change would eliminate the possibility of submitting to both the NRC and FLAS Fellowships Program simultaneously (though applicants still could continue to submit separate applications under each program). Proposed § 656.10 would affirm that the NRC Program follows the Department's standard procedures for grant applications, by directing potential applicants to the application notice in the Federal Register for guidance. Proposed § 656.11 would clarify the assurances and materials required in every application for the NRC Program. Proposed § 656.20 would add additional information about the selection process, including a description of the peer review and ranking process, and the process that would apply to the grants authorized under 20 U.S.C. 1122(a)(3)- (4).

Reasons: The NRC and FLAS Fellowships Programs have long been identified by separate Assistance Listing Numbers, and applications for these programs have been evaluated using program-specific selection criteria. The Department began using Grants.gov to receive applications for these two programs for the fiscal year 2022 competition. In addition to the substantive differences between the programs and the selection criteria, Grants.gov cannot accept one application for two programs with individual Assistance Listing Numbers. Given these substantive differences and technical limitations, removing the option for simultaneous submission would improve the efficiency of program administration.

The additional information on assurances and required application materials in proposed § 656.11 would clarify statutory requirements and improve the efficiency of program administration. Section 602(e) of the HEA (20 U.S.C. 1122(e)) requires an explanation of how grant funded activities reflect diverse perspectives, as defined in proposed § 655.4, and how applicants will encourage government service in areas of national need, as well as in areas of need in the education, business, and non-profit sectors. The Department already has required applicants for the NRC Program to submit these assurances for multiple competitions. The proposed regulation would emphasize the importance of this requirement.

Proposed § 656.20 would promote transparency and support efficient program management by adding a more detailed description of the selection process. The proposed change also would clarify that applications for grants to centers for special purposes authorized in 20 U.S.C. 1122(a)(3)-(4) would be evaluated using a newly developed set of selection criteria specifically designed for this purpose.

Under proposed § 656.20, experts in relevant fields would review applications for comprehensive Centers, undergraduate Centers, and special purpose grants to determine excellence based on the appropriate selection criteria. Applications with similar areas of geographic focus would be grouped together. Peer reviewers would score each application separately, and then applications from each group would be selected for funding in rank order within each group based on the peer reviewers' scores. If a lack of funds prevented funding all highly ranked applications in each group, the proposed regulation would permit the Department to consider the degree to which applications were likely to serve any competition priorities published in the application notice that were derived from the “consultation on areas of national need” or that were related to specific countries, world areas, or languages.

Variations on the proposed peer review process have been included in the application notice for several grant cycles. This proposed change would increase transparency and benefit new applicants that may be unfamiliar with the selection process. It would also affirm the importance of supporting the study of world areas or languages identified through the consultation process or priorities established by the Secretary.

Selection Criteria and Program Priorities (§§ 656.21, 656.22, 656.23, 656.24)

Statute: Section 602(a)(1)(B) of the HEA (20 U.S.C. 1122(a)(1)(B)) describes centers and programs awarded grants under this section as national resources for teaching modern foreign languages and providing related research and instruction in other academic fields. Section 602(a)(3)-(4) of the HEA (20 U.S.C. 1122(a)(3)-(4)) authorizes the Secretary to make additional grants to these centers for specific purposes, such as maintaining important library collections. Section 607(a) of the HEA (20 U.S.C. 1127(a)) requires separate grant selection criteria for comprehensive Centers and for undergraduate Centers. Section 607(b) of the HEA (20 U.S.C. 1127(b)) requires the Secretary to set selection criteria that will enable reviewers to determine excellence relative to the program's objectives. This section also requires the Secretary to consider specific selection criteria, such as the degree to which activities of centers and programs address national needs.

Current Regulation: Section 656.21 describes the selection criteria for comprehensive Centers. Section 656.22 describes the selection criteria for undergraduate Centers. Existing regulations do not describe selection criteria for additional grants made to centers for specific purposes mentioned in the statute. Section 656.23 describes the possible funding priorities for the NRC Program.

Proposed Regulation: The proposed changes to the selection criteria would add clarity, eliminate redundancy, and reduce the burden on applicants while improving alignment with the authorizing statute. The current selection criteria for comprehensive Centers are comprised of ten criteria and 27 specific sub-criteria, excluding competitive preference priorities. The current selection criteria for undergraduate Centers are comprised of ten criteria and 26 specific sub-criteria, excluding competitive preference priorities. The proposed changes would reduce the number of criteria for both comprehensive and undergraduate Centers to six and reduce the number of sub-criteria to 24. The proposed changes also would add a new set of selection criteria for the additional grants made to Centers for specific purposes authorized under 20 U.S.C. 1122(a)(3)-(4).

Proposed §§ 656.21(a)-(c) and 656.22(a)-(c) would require applicants to describe the current state of administrative operations, academic programs, educational resources, outreach and engagement initiatives, and other relevant activities. Proposed §§ 656.21(d)-(g) and 656.22(d)-(g) would ask applicants to describe their goals and plans for the grant period. Proposed § 656.23 would add selection criteria for additional special purpose grants authorized by the statute.

Proposed § 656.24 would rephrase the current list of priorities in § 656.23, add new priorities related to the teaching of specific modern foreign languages, the “consultation on areas of national need,” and the type of center, and it would remove a priority related to the types of center activities.

Reasons: The proposed revisions to the selection criteria are designed to provide greater alignment with the NRC Program statute. As described further below, focusing proposed §§ 656.21(a)-(c) and 656.22(a)-(c) on an applicant's current state of operations would help us select grantees that are most likely to meet the minimum characteristics of comprehensive and undergraduate Centers as defined in the statute and these proposed regulations. Proposed §§ 656.21(d)-(f) and 656.22(d)-(f) would require applicants to address plans to enhance their institutional capacity and conduct other project activities during the grant's performance period. The proposed arrangement of selection criteria would streamline the structure of the application narrative.

Proposed §§ 656.21(a) and 656.22(a) would add a criterion for “Center scope, personnel and operations.” This proposed criterion would combine and streamline elements of the selection criteria found in the current §§ 656.21(b) and 656.21(d) for comprehensive Centers and §§ 656.22(b) and 656.22(d) for undergraduate Centers. The proposed sections would continue to address the core operations of the proposed center, including staffing arrangement, governance, nondiscriminatory employment practices, and institutional commitment. Grouping sub-criteria related to these topics into a single category and clarifying that these sub-criteria refer specifically to the administrative unit seeking a designation as a National Resource Center under this program would reduce the confusion among applicants regarding the appropriate scope for this category. For example, a discussion of non-discriminatory employment practices should address practices specific to the proposed center rather than only providing general statements about practices at the institution as a whole, except to provide necessary context for the proposed Center's operations. The proposed category also would address topics that the current selection criteria do not address, such as the quality of existing academic programs and the impact of existing activities and resources.

Proposed §§ 656.21(a) and 656.22(a) would require applicants to explain how the focus of a proposed comprehensive Center or undergraduate Center, respectively, aligns with a geographic world area and existing opportunities for training, research, and instruction at the applicant institution. This approach would benefit applicants because we recognize that applicants may propose novel or distinctive approaches grounded in research, so they would be able to clearly explain the proposed center's area of focus to reviewers and describe the rationale for it.

As noted above, proposed §§ 656.21(a) and 656.22(a) also would combine elements of the selection criteria found in the current §§ 656.21(b) and 656.21(d) for comprehensive Centers and 656.22(b) and 656.22(d) for undergraduate Centers, respectively. The proposed criteria would continue to address staff qualifications and professional development, nondiscriminatory employment practices, oversight arrangements, and institutional commitment.

Proposed §§ 656.21(a)(2) and 656.22(a)(2) would limit consideration of personnel qualifications to the position of project director and the proposed Center's staff, and focus on administrative capacity, without extending consideration to teaching faculty and other staff as under current §§ 656.21(b)(1) and 656.22(b)(1). Applicants typically have large numbers of teaching faculty, most of whom are not directly involved in the administration of a proposed Center. Proposed §§ 656.21(b)(3)-(4) and 656.22(b)(3)-(4) would require applicants to describe the qualifications of teaching faculty to demonstrate the quality of academic programs, which more closely aligns with the major responsibilities of most teaching faculty. Proposed §§ 656.21(a)(3) and 656.22(a)(3) would specifically require consortia applicants to provide a rationale for the formation of a consortium, which would allow reviewers to evaluate the administrative impact of the consortium agreement.

Proposed §§ 656.21(a)(4) and 656.22(a)(4) would require applicants to describe financial, administrative, and other support specifically for the proposed Center rather than for the entire relevant subject area as under current §§ 656.21(d) and 656.22(d). Reported amounts of financial support are subject to wide variation for reasons unrelated to an institution's actual level of commitment. Labor and other costs vary substantially by geographic location within the United States. Financial support for students may reflect an IHE's tuition rates, which vary widely across institutions. For example, an institution that charges very modest tuition and routinely waives all tuition and mandatory fees for students in an area studies program may report a lower level of total financial support for students under the current selection criteria than an institution that charges much higher tuition and only waives a small portion of tuition for a similar population of students. The proposed change would allow reviewers to evaluate institutional support that is directly relevant to the administration of the applicant's proposed project and the resources that will support the applicant to conduct project activities. The other proposed selection criteria provide alternative opportunities to demonstrate the effects of an institution's financial support for the proposed Center's area of focus in terms of the availability and quality of various educational resources, such as teaching staff, library resources, linkages with institutions abroad, outreach activities, and student support.

Proposed §§ 656.21(b) and 656.22(b) would add a criterion for “Quality of existing academic programs.” This proposed criterion would combine elements of the selection criteria found in the current §§ 656.21(f)-(h) and 656.22(f)-(h) for the comprehensive Centers and undergraduate Centers, respectively. The proposed criteria would continue to address elements of curriculum design, language instruction, non-language area studies instruction, but the proposed category would allow applicants to address these elements in a more integrated manner, emphasizing how these elements of academic excellence are closely interconnected. Overall, the proposed changes would explicitly require applicants to describe distinctive strengths in instruction and curriculum design, so applicants would be able to highlight features of national significance. Proposed §§ 656.21(b)(1) and 656.22(b)(1) would continue to emphasize the degree to which intentionally interdisciplinary approaches to instruction, training, and research are indicators of excellence for the NRC Program. Proposed §§ 656.21(b)(3) and 656.22(b)(3) would require applicants to describe whether applicants integrate performance goals into language instruction and how applicants determine whether those goals are being met. This sub-criterion would acknowledge that the design, implementation, and ongoing improvement of language instruction is an indicator of excellence.

The proposed changes in §§ 656.21(b) and 656.22(b) also use the definitional characteristics that appear in the statute as the basis for distinguishing more clearly between the complementary purposes of the academic programs associated with comprehensive Centers and the academic programs of undergraduate Centers. Proposed § 656.21(b)(1) would require applicants for a comprehensive Center to demonstrate that the applicant's institution or consortium of institutions serve undergraduate, graduate, and professional students through relevant educational programs. Proposed § 656.22(b)(1) would require applicants for an undergraduate Center to demonstrate that the institution or consortium of institutions primarily serves undergraduate students through educational programs as an outgrowth of the institution's mission and identity as an institution focused predominantly or even exclusively on undergraduate education. In this context, an institution “predominantly” serves undergraduate students when baccalaureate or higher degrees represent at least 50 percent of all degrees but where fewer than 50 master's degrees or 20 doctoral degrees were awarded in the most recent year preceding the application deadline for which data is available. These proposed criteria would improve the selection of all Centers described in 20 U.S.C. 1122(a)(1)(A), including a diverse network of undergraduate Centers that are distinct from the comprehensive Centers. These proposed criteria would not require the existence of any specific educational programs at applicant institutions.

The differences between comprehensive Centers and undergraduate Centers also would appear in other criteria. Proposed § 656.21(b)(2) would require comprehensive Centers to demonstrate the existence of intensive language instruction, which is a characteristic of a comprehensive Center mentioned in the proposed § 656.21(b)(4). Proposed § 656.22(b)(4) would address the relevant faculty, scholars, instructors, and other academic personnel that support educational programs at the applicant institution, but § 656.21(b)(4) would require comprehensive Center applicants to demonstrate the existence of a critical mass of expertise relevant to the proposed Center's area of focus. In addition to addressing definitional characteristics from the statute, this criterion would also allow applicants to demonstrate that faculty have the capacity to support graduate and professional programs rather than only undergraduate programs.

Proposed §§ 656.21(c) and 656.22(c) would add a criterion for “Impact of existing activities and resources.” This proposed criterion would combine elements of the selection criteria found in the current §§ 656.21(c), 656.21(e), and 656.21(i) for comprehensive Centers, and §§ 656.22(c), 656.22(e), and 656.22(i) for undergraduate Centers. The proposed criterion would require applicants to describe how the applicants' educational resources, efforts to engage various audiences, and educational programs demonstrate that proposed centers make distinctive contributions at the national level. Proposed §§ 656.21(c)(3) and 656.22(c)(3) would continue to affirm that effective outreach and engagement involving a wide range of audiences and partners are crucial elements of the NRC. The proposed wording both streamlines the discussion of outreach efforts and allows applicants to describe other audiences. The proposed change would also emphasize that the existence of outreach and engagement programs alone does not speak to their efficacy. Proposed §§ 656.21(c)(4) and 656.22(c)(4) would closely resemble the current §§ 656.21(c)(3)-(4) and 656.22(c)(3)-(4) by requiring applicants to respond to a criterion mandated by the statute that addresses how applicants currently address national needs for language and area studies expertise and knowledge identified by Federal agencies, as well as other needs identified in other sectors, including the education, business, and non-profit sectors.

Proposed §§ 656.21(c)(1)-(2) would further clarify that comprehensive Centers and affiliated individuals are expected to make significant contributions to research and the provision of access to educational resources that enable different types of research. As employed in proposed § 656.21(c)(1), we would interpret the “national interest” as broadly as possible to reflect the statute's interest in supporting the security, stability, and economic vitality of the United States, which includes the recognition that the production of advanced research about world regions is critical for ensuring that IHEs remain globally competitive within the global landscape of higher education.

Consistent with 20 U.S.C. 1132(a)(2), proposed § 656.21(c)(2) would require comprehensive Centers to maintain “important” library collections that would support the comprehensive Center's activities. The proposed sub-criterion would specify that important library collections include distinctive holdings that do not duplicate materials widely available at other libraries, especially in light of the increasing importance of digital access to scholarly monographs and journals. Including the concept of “access” would make clear that important collections are collections that are used by researchers, including those not based at institutions of higher education. Whether through the digitization of special collections or access policies, applicants would be required to describe the degree to which they make their collections available to others through various means. Proposed §§ 656.22(c)(1)-(2) would adapt these sub-criteria to the distinct purpose of undergraduate Centers. This proposed sub-criterion would remove the explicit consideration of financial support for acquisition and library staff in current §§ 656.21(e)(1) and 656.22(e)(1), as well as direct consideration of cooperative arrangements and databases in current 656.21(e)(2) and 656.22(e)(2). Although financial support is critical for the long-term viability of academic libraries, such support is less directly relevant for reviewers to determine the resources and expertise that will be available during the grant's performance period. The proposed sub-criteria would directly address library staffing rather than financial support for staffing. Online databases and other electronic materials are now commonplace in library collections, so they do not need to be singled out as resources apart from a library's normal collections. Moreover, the concept of an “important” library collection is sufficiently broad that applicants for comprehensive Centers may include any or all of these considerations in their response to the proposed sub-criterion.

In contrast to proposed §§ 656.21(a)-(c) and 656.22(a)-(c) that would focus on the applicants' current operations, proposed §§ 656.21(d)-(g) and 656.22(d)-(g) would require applicants to describe their goals and plans for the grant period. Proposed §§ 656.21(d) and 656.22(d) would add a criterion for “Project design and rationale.” This criterion would require applicants to explain the overall vision for their projects and how their projects are intended to meet the purposes of the NRC Program. This proposed addition would complement the criteria proposed in §§ 656.21(e) and 656.22(e), which would address plans for activities and budgets, and the criteria in proposed §§ 656.21(f) and 656.22(f), which would address plans for project evaluation. Proposed §§ 656.21(e)-(f) and 656.22(e)-(f) would emphasize that applicants must select activities, allocate funds, and determine whether intended project outcomes are attained in an intentional manner that is responsive to institutional contexts and aligned with project goals. The changes also would emphasize in this context that evaluation plans must be simple, cost-effective, and focused on high level outcomes rather than on tracking expenses or the implementation of individual activities.

These three interrelated criteria would require applicants to explain the intended outcomes for their projects, specific activities and how they would align with the intended outcomes, and the evaluative process that would help determine whether those intended outcomes were being realized during the grant period. These criteria would enable peer reviewers to determine the excellence of the proposed project in relation to the current state described in proposed §§ 656.21(a)-(c) and 656.22(a)-(c).

Proposed §§ 656.21(d)(4) and 656.22(d)(4) would require applicants to explain how diverse perspectives and a wide range of views required by the statute would be represented in the project. This sub-criterion would allow expert peer reviewers to evaluate how effectively the proposed project would address a statutory mandate that project activities reflect diverse perspectives and a wide range of views on world regions and international affairs and generate debate on world regions and international affairs. This approach would complement the current requirement for applicants to submit an assurance on this topic by allowing applicants to receive expert feedback, which they currently do not. The proposed sub-criterion also would provide additional guidance to applicants that the discussion of diverse perspectives should be directly relevant to the proposed project rather than a general statement about institutional practices. This approach would ensure that high scoring applicants would be likely to meet the statutory expectation at the time of application and throughout the grant's performance period.

The proposed selection criteria would also eliminate certain elements of the current selection criteria not addressed above. Current §§ 656.21(h)(3) and 656.22(h)(3) specifically include the extent to which the institution facilitates student access to other institutions' study abroad and summer language programs. The proposed selection criteria would not include identical provisions. Because proposed §§ 656.21(b)and 656.22(b) require applicants to address the extent to which an institution makes high-quality training in modern foreign language and area or international studies available, however, the proposed regulations would not preclude discussing student access to other institutions' study abroad and summer language programs in this context. The proposed regulations would eliminate current §§ 656.21(j) and 656.22(j), “Degree to which priorities are served,” as the Secretary may award points for competitive preference priorities without including such a category in the selection criteria. See generally 34 CFR 75.105(c). Although the Department has never interpreted the regulations to allow it, moreover, removing priorities from the selection criteria also avoids the appearance of allowing applicants to receive points twice for responding to the same competitive preference priority (once through the selection criteria, and once for responding to the priority). This proposed change would not alter the current approach to competitive preference priorities. Current §§ 656.21(c)(2) and 656.22(c)(2) require that an applicant's evaluation plan produce quantifiable, outcome-measure-oriented data. The proposed regulations would eliminate this explicit requirement. Instead, proposed §§ 656.21(f) and 656.22(f) would require applicants to describe a more holistic approach to evaluation, including the qualifications of the evaluator(s) and an evaluation plan that is appropriate for the grant project. Although many performance-related data are quantifiable, not all data collected for evaluation purposes are quantifiable. Qualitative data may be a component of an evaluation plan. The proposed regulations also would include a requirement to describe plans to obtain performance feedback and periodic assessment of progress toward meeting intended outcomes, so the proposed approach incorporates an interest in project outcomes. The proposed regulations would provide greater flexibility to applicants when designing an evaluation plan.

By separating the award of special project grants from the award of center grants, the addition of proposed § 656.23 would streamline the Department's implementation of the statute. Proposed § 656.23 would be very similar to proposed §§ 656.21(d)-(f) and 656.22(d)-(f), which focus on the purpose and activities related to an applicants' project, but because only Centers selected for funding under the NRC Program would be eligible for these additional grants, applicants would not be required to submit duplicative information about the current state of the applicant institution. Proposed § 656.23 would make clear that additional special purpose grants are intended to allow applicants to achieve a significant outcome in addition to the funding typically provided under the NRC Program and cannot be used to supplant funding for other project activities.

Proposed § 656.24 would rephrase the current list of priorities in § 656.23, add three new priorities, and drop a priority. The rephrasing of priorities in current § 656.23 would enhance clarity by removing redundant or unnecessary words. Given the importance of the instruction of modern foreign languages, especially less commonly taught languages in the program statute, adding a priority related to the teaching of specific modern foreign languages would improve the Secretary's ability to meet the program purpose by prioritizing instruction in certain languages, if the need arises. The new priority related to the “consultation on national need” would allow the Secretary to select a priority that explicitly reflects the results of the consultation with Federal agencies. While such consultation is required by the statute, this proposed change would enable the Secretary to easily identify a priority for a specific language or world region as aligned with the national needs recognized by Federal agencies, which would better integrate the required consultation and the NRC Program. The proposed regulation would drop a priority related to the specific focus of a center but would add a similar priority that addresses both the geographically defined focus and topical focus of a center. This priority would align with the requirement that all centers declare a geographic area of focus incorporated into these proposed regulations. The combination of geographic focus and topical focus would ensure the Secretary is able to appropriately prioritize awards, if needed.

Section 656.30 What activities and costs are allowable?

Statute: Section 602(a)(2) of the HEA (20 U.S.C. 1122(a)(2)) states that grants made under this section may pay all or part of the cost of establishing or operating a relevant center or program.

Current Regulation: Sections 656.3, 656.5, and 656.30 explain allowable costs and activities for the NRC Program.

Proposed Regulation: Proposed § 656.30 would combine current § 656.30 with current §§ 656.3 and 656.5 to make one comprehensive allowable costs and activities section. Proposed § 656.30 would reorder the list of examples of allowable activities included in the current regulation and would add several new limitations on costs, including a prohibition on compensation for project directors and a limitation on personnel costs for individuals who are not directly engaged in the instruction of less commonly taught languages. The proposed regulation would also add an explicit pre-approval requirement for costs associated with international travel. The proposed regulation would preserve the current requirement that grant funds may not supplant funds normally used by applicants to support the same activities.

Reasons: Proposed § 656.30 would reduce repetition and streamline the description of allowable costs and activities by combining three sections into one comprehensive section. In keeping with the statutory direction in 20 U.S.C. 1122(a)(2), NRC Program grants may pay all or part of the cost associated with establishing or operating a center, so the NRC Program's primary limitations on allowable activities would remain the scope of funded applications and whether individual activities serve the purpose of establishing or operating a center. The listed activities and their associated costs would continue to serve as examples of activities and costs typically deemed allowed for the NRC Program. The list would highlight activities that are closely aligned with the program purpose.

The proposed changes would revise and reorder the combined list of activities to enhance clarity by highlighting activities that directly serve the program purpose. In addition, the proposed regulation would add to the list of allowable activities support for instructors of the less commonly taught languages, opportunities for the study of the less commonly taught languages, dissemination of information about the Center's area of focus to various audiences through domestic outreach activities, efforts to increase language proficiency for students in STEM fields, establishing and maintaining linkages with overseas institutions of higher education, and conducting projects that encourage and prepare students to seek employment relevant to the Center's area of focus in areas of national need. The proposed regulation would also expand the scope of listed activities related to libraries to include the maintenance of library collection and efforts to enhance access to library collections. Centers frequently engage in many of these activities.

The proposed regulation would preserve the current requirement that grant funds may not supplant funds normally used by applicants to support the same activities, to ensure that grant funds are a catalyst for institutional investment in a critical area of the national postsecondary education infrastructure. The proposed regulation also would add several new limitations on costs to limit or prohibit costs that would be unlikely to serve the purposes of the NRC Program, based upon substantial experience in administering the program. These limitations would include a prohibition on compensation for project directors and a limitation on personnel costs for individuals who are not directly engaged in the instruction of less commonly taught languages. The proposed regulation would also add an explicit pre-approval requirement for costs associated with international travel. Experience with administration of the NRC Program has demonstrated that these limitations and the pre-approval requirement are prudent and necessary to ensure that grant funds are being spent effectively in service of the program's purpose. These limitations also follow longstanding guidance and technical assistance to the grantee community.

Part 657

Statute: 20 U.S.C. 1122.

Current Regulations: Part 657 contains the regulations for the FLAS Fellowships Program.

Proposed Regulation: The Department proposes to replace part 657 in its entirety due to the number of necessary changes and the accompanying need to reorganize these parts to improve readability. Sections that address similar topics would be combined, and duplicative or contradictory paragraphs would be eliminated.

Reasons: These changes would allow the Department to substantially revise the selection criteria and application processes for the FLAS Fellowships Program, introduce new definitions, revise or eliminate existing definitions, align the regulations with the statute, and reduce the burden associated with the FLAS Fellowships Program.

Section 657.1 What is the Foreign Language and Area Studies Fellowships Program?

Statute: Section 602(b)(1) of the HEA (20 U.S.C. 1122(b)(1)) authorizes the Secretary to make grants to institutions of higher education or consortia of such institutions for the purpose of paying stipends to individuals undergoing advanced training in centers or programs approved by the Secretary.

Current Regulation: Section 657.1 describes the FLAS Fellowships Program as a program that provides IHEs with allocations of fellowships that are awarded to eligible students.

Proposed Regulation: Proposed § 657.1 would clarify that the FLAS Fellowships Program is an institutional program that enables eligible IHEs to compete for an allocation of fellowships that are distributed to eligible students on a competitive basis.

Reasons: The proposed change would reduce confusion by eliminating details about student eligibility criteria from this section, because these eligibility criteria would be addressed at greater length elsewhere. The proposed change would also highlight the advanced nature of the interdisciplinary training that the statute envisions for the fellows, to satisfy the statutory purpose of creating a pool of trained personnel and experts in foreign language and area studies to meet national needs identified by Federal agencies, as well as other needs identified in other sectors, including the education, business, and nonprofit sectors. See, e.g., 20 U.S.C. 1121(b)(1)(B). The ongoing and sustained cultivation of expertise through training provided by IHEs across the full range of world areas and modern foreign languages helps ensure the security, stability, and economic vitality of the United States. The fellowships also provide invaluable support for instruction and training in area studies and foreign language at the IHEs that receive allocations of fellowships.

Institutional Eligibility and the Requirements for an Allocation of Fellowships (§§ 657.2 and 657.3)

Statute: Section 602(b)(1) of the HEA (20 U.S.C. 1122(b)(1)) authorizes the Secretary to make grants to institutions of higher education or consortia of such institutions for the purpose of paying stipends to individuals undergoing advanced training in any center or program approved by the Secretary.

Current Regulation: Section 657.2 describes the eligibility criteria for IHEs.

Proposed Regulation: Proposed § 657.2 would clarify that only IHEs or a consortium of IHEs are eligible for an allocation of fellowships under the FLAS program. Proposed § 657.3 would address all additional instructional and administrative requirements for grantees under this program.

Reasons: The proposed regulation would align the institutional eligibility determination in proposed § 657.2 with the statute by clearly stating that all IHEs are eligible to apply for an allocation of fellowships. Proposed § 657.3 would provide a more concise list of instructional and administrative requirements for institutional grantees under the FLAS Fellowships Program than the current § 657.2. Proposed § 657.3(b) would also improve transparency by clearly linking the administration of the allocation of fellowships with the applicants' application materials. As in the current regulations, proposed § 657.3 specifies that applicants would not need to be grantees under the NRC Program to be eligible to receive an allocation of fellowships under the FLAS Fellowships Program, even though the programs are complementary.

Section 657.4 Who is eligible to receive a fellowship?

Statute: Section 602(b)(2) of the HEA (20 U.S.C. 1122(b)(2)) describes the FLAS Fellowships Program eligibility criteria.

Current Regulation: Section 657.3 describes the fellowship eligibility criteria for students who are enrolled or have been accepted for enrollment at an IHE that receives an allocation of fellowships. Section 657.30 describes limitations on the award of fellowships, including with respect to student eligibility.

Proposed Regulation: Proposed § 657.4 would retain existing requirements for citizenship and residency, enrollment status, academic merit, and modern foreign language study in a program using or developing performance goals. The proposed regulation would add descriptions of the training that three distinct populations of students must be able to receive during the fellowship period to be eligible to receive fellowships. The proposed changes would clarify that a student's educational program is a relevant criterion for determining a student's eligibility for a FLAS Fellowship.

Reasons: The proposed regulation would reduce ambiguity and the potential for contradictory interpretations of student eligibility criteria. Adding descriptions of allowable types of training also would emphasize that student eligibility is tied to the availability of appropriate opportunities for instruction and training.

The proposed changes would tie fellowship eligibility to a student's educational program to better align the program design with the program's statutory purpose of promoting expertise in foreign language and area studies. In this context, a student's educational program refers to their degree program, inclusive of major requirements, minor requirements, general education requirements, certificate requirements, and other curricular requirements. The holistic emphasis on educational programs rather than solely focusing on individual courses during a specific academic term would ensure that fellowships are supporting the structured and intentional training of experts within appropriate curricular frameworks.

The proposed changes would allow a grantee to identify any educational program as eligible if the educational program combines the study of modern foreign languages with area studies or the study of other fields from an international perspective. The diversity of curricular options at grantee IHEs would ensure the cultivation of relevant expertise in a wide variety of fields. The proposed regulation would recognize that well-designed curricula leading to recognized educational credentials are the most appropriate means for cultivating the types of expertise in modern foreign languages and area studies contemplated by the statute. We believe that the proposed regulation would encourage IHEs to innovate and establish appropriate interdisciplinary curricular options for students to study modern foreign languages and area studies in all fields of study, including STEM and professional fields. Formal curricular options discourage ad hoc arrangements that benefit one or only a small number of students. Making educational programs a fellowship eligibility criterion also would mitigate risk to the Department because it would require IHEs to demonstrate commitment to provide relevant courses, faculty, and educational resources for fellows at the grantee institution throughout the performance period.

Section 657.5 What is the amount of a fellowship?

Statute: Section 602(b)(1) (20 U.S.C. 1122(b)(1)) authorizes the Secretary to makes grants to IHEs or consortia of such institutions for the purpose of paying stipends to eligible students.

Current Regulation: Section 657.31 describes the amount and components of a fellowship.

Proposed Regulation: The proposed changes would relocate the description of the fellowship amount to subpart A to improve the organization of the program regulations. Proposed § 657.5 would combine the current subsistence payment for the fellow (stipend) with the institutional payment for tuition and fees into a single stipend amount that would go to the fellow. This change would make a single stipend payment the major component of fellowships awarded under the FLAS Fellowships Program. Following current practice, the stipend amount for the academic year and summer as well as graduate and undergraduate fellowships authorized under this program would be announced in the Federal Register.

Reasons: Given the program's longstanding prohibition on administrative costs, the elimination of the institutional payment would eliminate the substantial burden for grantees associated with tracking and processing institutional payments as distinct from the stipend payments. The proposed change also acknowledges that institutional definitions of mandatory fees vary greatly, which complicates the Department's ability to set an appropriate institutional payment amount. The proposed change would also establish predictable unit costs for fellowships, which would promote the efficient allocation and administration of fellowships. The proposed change would improve the ability of grantees to increase the number of meritorious students who apply for a fellowship because of the potential for larger stipend payments, which would enhance the program's ability to meet its statutory purpose. The Department anticipates that grantees already contributing to costs above the institutional payment amount, to match commitments made to similar students at the same IHE, will continue to do so.

The proposed change would not alter the Department's expectation that payments cover fellows' living expenses and the costs of advanced training in modern foreign languages and area studies. The proposed change would not affect the requirement that fellows remain in good academic standing and make satisfactory progress during the fellowship period or face potential termination of the fellowship. The proposed change would make additional funds available directly to the fellow and discourage IHEs from artificially increasing the institutional payment by setting tuition and fee amounts greater than actual costs. Increasing the amount of funds directly available to the fellow would allow the fellow to defray costs for specialized materials and experiences that support advanced training in modern foreign languages and area studies that would fall outside the definition of tuition, fees, or living expenses. The increased flexibility resulting from the proposed change would make the FLAS Fellowships Program more comparable to other Federal programs with similar goals, such as Boren Scholarships and Boren Fellowships, which cover recipient expenses for books, research materials, and other expenses apart from living expenses, tuition, and fees.

Section 657.7 What definitions apply to this program?

Statute: Section 602 of the HEA (20 U.S.C. 1122) authorizes the Secretary to define terms necessary to make grants under the FLAS Fellowships Program.

Current Regulation: Section 657.5 defines terms that apply to the FLAS Fellowships Program.

Proposed Regulation: Proposed § 657.7 would add the definition of “stipend” for the FLAS Fellowships Program. The proposed regulation would adjust the terminology used in part 657 by replacing the terms “Center” and “program” with the terms “approved Centers” and “approved programs.”

Reasons: The proposed changes would reduce ambiguity in part 657. The proposed definition of “stipend” would reflect that the FLAS fellowships typically would consist of a single payment to a fellow rather than the current combination of a subsistence allowance paid to the student (stipend) and a separate institutional payment intended to cover the costs of tuition and fees. Adding this definition would standardize the use of the term, eliminate redundant terminology, and therefore improve the efficiency of program implementation. The introduction of the terms “approved Center” and “approved program” would clearly distinguish centers and programs approved under the NRC or FLAS Fellowships Programs from other centers and programs at IHEs.

Section 657.8 Severability

Statute: Section 602 of the HEA (20 U.S.C. 1122) authorizes the Secretary to define terms necessary to make grants under the NRC Program.

Current Regulations: The current regulations do not address severability.

Proposed Regulation: The proposed regulation would add a severability provision.

Reasons: The Department seeks to clarify its intent that, with regard to severability, each of the regulations in part 657 and its subparts serves one or more important, related, but distinct, purposes. To best serve these purposes, we included this administrative provision in the regulations to make clear that the regulations are designed to operate independently of each other and to convey the Department's intent that the potential invalidity of one provision or any of its subparts should not affect the remainder of the provisions.

Application and Selection Processes (§§ 657.10, 657.11, 657.12, and 657.20)

Statute: Section 602(e) of the HEA (20 U.S.C. 1122(e)) requires institutions seeking a grant under this program to follow an application process designed by the Secretary.

Current Regulation: Section 657.10 allows an applicant to submit a combined application for the NRC and FLAS programs. Section 657.20 describes which selection criteria are used and how the Department communicates the point values for the selection criteria.

Proposed Regulation: The proposed regulations would update the application and selection processes. The proposed change would eliminate the possibility of submitting to both the NRC and FLAS Fellowships Program simultaneously (though applicants still could continue to submit separate applications under each program). Proposed § 657.10 would affirm that the FLAS Fellowships Program follows the Department's standard procedures for grant applications by directing potential applicants to the application notice in the Federal Register for guidance. Proposed § 657.11 would clarify the assurances and materials required in every application for the FLAS Fellowships Program. Proposed § 657.12 would reaffirm that individual students apply for individual fellowships through IHEs that have received an allocation of fellowships. Proposed § 657.20 would add additional information about the selection process.

Reasons: The proposed regulations would provide more accurate guidance based on current program management practices. The NRC Program and FLAS Fellowships Program have long been identified by separate Assistance Listing Numbers, and applications for these programs have been evaluated using program-specific selection criteria. The Department began using Grants.gov to receive applications for these two programs for the fiscal year 2022 competition. In addition to the substantive differences between the programs and the selection criteria, Grants.gov cannot accept one application for two programs with individual Assistance Listing Numbers. Given these substantive differences and technical limitations, removing the option for simultaneous submission would improve the efficiency of program administration. Proposed § 657.10 affirms that the FLAS Fellowships Program follows the Department's standard procedures for grant applications by directing potential applicants to the application notice in the Federal Register for guidance.

The additional information on assurances and required application materials in proposed § 657.11 would clarify statutory requirements and improve the efficiency of program administration. Section 602(e) of the HEA (20 U.S.C. 1122(e)) requires the explanation of how grant funded activities reflect diverse perspectives, as defined in the proposed regulations, and how applicants will encourage government service in areas of national need, as well as in areas of need in the education, business, and non-profit sectors. The Department already has required institutional applicants for the FLAS Fellowships Program to submit these assurances for multiple competitions. The proposed regulation would emphasize the importance of this requirement.

Proposed § 657.12 makes minor adjustments to the description of the student application process to make clear that individual students must apply for a fellowship through institutional grantees under part 657. The proposed change would codify longstanding practices that institutional grantees control the application and selection processes for individual fellowships.

Proposed § 657.20 would promote transparency and support efficient program management by adding a more detailed description of the selection process. Under proposed § 657.20, experts in relevant fields would review applications for an allocation of fellowships to determine excellence based on the appropriate selection criteria. Applications with similar areas of geographic focus would be grouped together. Peer reviewers would score each application separately, and then applications from each group would be selected for funding in rank order within each group based on the peer reviewers' scores. If a lack of funds prevented funding all highly ranked applications in each group, the proposed regulation would permit the Department to consider the degree to which applications were likely to serve any competition priorities published in the application notice that were derived from the “consultation on areas of national need” or that were related to specific countries, world areas, or languages.

Variations on the peer review process described in the proposed regulation have been included in the application notice for several grant cycles, so the proposed regulation would reflect longstanding practices. This added transparency also would benefit new applicants that may be unfamiliar with the selection process and would affirm the importance of supporting the study of world areas or languages identified through the consultation process or priorities established by the Secretary.

Selection Criteria and Program Priorities (§§ 657.21 and 657.22)

Statute: Section 607(b) of the HEA (20 U.S.C. 1127(b)) requires the Secretary to set selection criteria that will enable reviewers to make a determination of excellence relative to the program's objectives. This section also requires the Secretary to consider specific selection criteria, such as the degree to which fellowships at IHEs address national needs and generate information for and disseminate information to the public.

Current Regulation: Section 657.21 describes the selection criteria for comprehensive Centers. Section 656.22 describes the possible funding priorities for the FLAS Fellowships program.

Proposed Regulation: The proposed changes to the selection criteria would add clarity, eliminate redundancy, and reduce the burden on applicants while improving alignment with the authorizing statute. The current selection criteria are comprised of nine criteria and 22 specific sub-criteria, excluding specific sub-criteria describing the competitive preference priorities for a specific competition. The proposed changes would reduce the number of criteria to six without modifying the total number of sub-criteria.

Proposed § 657.21(a)-(c) would require applicants to describe the current state of administrative operations, academic programs, educational resources, and other relevant activities. Proposed §§ 657.21(d)-(f) would require applicants to describe their goals and plans for the grant period.

Proposed § 657.22 would rephrase the current list of priorities in § 657.22, add a new priority related to the use of stated performance goals in language instruction, add a new priority related to the “consultation on areas of national need,” add a priority related to academic terms, and drop a priority related to specific countries.

Reasons: The proposed revisions to the selection criteria are designed to provide greater alignment with the FLAS Fellowships Program statute. As described further below, the focus of proposed § 657.21(a)-(c) on an applicant's current state of operations would help us to select grantees that are most likely to meet the minimum instructional and administrative requirements included in the statute and these proposed regulations. Proposed § 657.21(d)-(f) would require applicants to address plans for the grant's performance period. The proposed arrangement of selection criteria would streamline the structure of the application narrative.

Proposed § 657.21(a) would add a criterion for “Scope, personnel and operations.” This proposed criterion would require applicants to explain how the applicant meets the instructional and administrative requirements detailed in proposed § 657.3(a), including, but not limited to, how the proposed allocation of fellowships would be used to support area studies and language training and instruction aligned with a geographically defined world area and specific languages associated with that world area. This approach would benefit applicants because we recognize that applicants may propose novel or distinctive approaches grounded in research, so they would be able to clearly explain the proposed allocation of fellowships to reviewers and describe the rationale for it.

Proposed § 657.21(a) also would combine elements of the selection criteria found in the current § 657.21(b) and 657.21(d). The proposed criterion would continue to address oversight arrangements and institutional commitment. Proposed §§ 657.21(a)(3) would specifically require consortia applicants to provide a rationale for the formation of a consortium which would allow reviewers to evaluate the administrative impact of the consortium agreement.

Proposed § 657.21(a)(4) would require applicants to describe financial, administrative, and other support specifically to support administration of the allocation of FLAS fellowships rather than for the entire relevant subject area as under current § 657.21(d). Reported amounts of financial support are subject to wide variation for reasons unrelated to an institution's actual level of commitment. For example, labor and other costs vary substantially by geographic location within the United States. Financial support for students may reflect an IHE's tuition rates, which vary widely across institutions. For example, an institution that charges relatively modest tuition and routinely waives all tuition and mandatory fees for students in an area studies program may report a lower level of total financial support for students under the current selection criteria than an institution that charges high tuition and only waives a portion of tuition for a similar population of students. The proposed change would allow reviewers to evaluate institutional contributions that are directly relevant to the administration of applicant's allocation of fellowships. The other proposed selection criteria provide alternative opportunities to demonstrate the effects of an institution's financial support relevant to administration of the proposed allocation of fellowships in terms of the availability and quality of various educational resources, such as teaching staff, library resources, linkages with institutions abroad, and student support.

Grouping sub-criteria related to these topics into a single category and clarifying that these sub-criteria refer specifically to the administrative unit seeking an allocation of fellowships would help ensure that the allocation of fellowships aligns with the program purpose and that grantees have the necessary administrative capacity.

Proposed § 657.21(b) would add a criterion for “Quality of curriculum and instruction” that would combine elements of the selection criteria found in current §§ 657.21(f)-(h). The proposed criteria would continue to address elements of curriculum design, language instruction, and non-language area studies instruction, but the proposed category would allow applicants to address these elements in a more integrated manner, emphasizing how these elements of academic excellence are closely interconnected.

Overall, the proposed changes would explicitly require applicants to describe distinctive strengths in instruction and curriculum design, so applicants would be able to highlight features of national significance. Proposed § 657.21(b)(1) would continue to emphasize the degree to which intentionally interdisciplinary curriculum options for students are indicators of excellence for the FLAS Fellowships Program. Proposed § 656.22(b)(3) would require applicants to describe whether applicants integrate performance goals into language instruction and the degree to which such goals, if they exist, are met or are likely to be met by students. This sub-criterion resembles current § 657.21(g)(4) and responds more directly to the statutory requirement that fellows enroll in instructional programs with stated performance goals or in programs that are developing such performance goals (20 U.S.C. 1122(b)(2)(A)). This proposed sub-criterion also acknowledges that the design, implementation, and ongoing improvement of language instruction is an indicator of excellence. The proposed sub-criteria also would eliminate the extent to which students enroll in the study of language from explicit consideration as an indicator of quality for an applicant's program of language instruction, which is included in current § 657.21(g)(1), and instead require applicants to explain in proposed § 657.21(b)(2) the frequency with which relevant language courses at various level are offered. The proposed focus on frequency will allow reviewers to more directly evaluate an institution's capacity to offer relevant language instruction and training.

Proposed §§ 657.21(c) and 657.22(c) would add a criterion for “Quality of faculty and academic resources.” This proposed criterion would combine elements of the selection criteria found in the current §§ 657.21(c), 657.21(e), and 657.21(h). The proposed criterion would require applicants to describe how the applicants' educational resources and educational programs demonstrate that the proposed allocation of fellowships would support high quality and distinctive training opportunities for fellows. Proposed §§ 657.21(c)(1)-(2) would further emphasize the need to employ highly qualified faculty at IHEs receiving an allocation of fellowships. Proposed § 657.21(c)(2) would emphasize that IHEs receiving an allocation of fellowships must be deeply committed to a fellow's future success as demonstrated by the intentional provision of academic and career advising specifically tailored to the strengths and experiences of FLAS fellows. Such opportunities would potentially benefit all students with international experiences and expertise.

Proposed § 657.21(c)(3) would remind applicants that fellows undergoing advanced training in modern foreign languages and area studies must have access to appropriate educational resources, especially suitable library collections and other research collections. This proposed sub-criterion would remove the explicit consideration of financial support for acquisition and library staff in current § 657.21(e)(1), as well as direct consideration of cooperative arrangements and databases in current § 657.21(e)(2). Instead, proposed § 657.21(c)(3) requires applicants to describe library staffing arrangements relevant to the proposed allocation of fellowships. Although financial support is critical for the long-term viability of academic libraries, such support is less directly relevant for reviewers to determine the resources that will be available to fellows during the grant's performance period. Online databases and other electronic materials are now commonplace in library collections, so they do not need to be singled out as resources apart from a library's normal collections.

Proposed § 657.21(c)(4) would emphasize the importance of access to relevant research and study abroad opportunities for FLAS fellows and require applicants to discuss the actual use of such arrangements, which would indicate not only breadth of offerings but also their ease of use and the institution's responsiveness to student interests.

Proposed § 657.21(d) would add a criterion for “Project design and rationale.” This criterion would allow applicants to explain the overall vision for their projects and how their projects are intended to meet the purposes of the FLAS Fellowships Program. Current sub-criteria addressing national needs and placement would be merged with this criterion. Proposed § 657.21(d)(1) would require applicants to discuss how a proposed allocation of fellowships would fit with the applicants' educational programs and resources. This sub-criterion would encourage applicants to identify specific educational programs and languages that are likely to be supported by the proposed allocation of fellowships.

Proposed § 657.21(d)(4) would require applicants to explain how diverse perspectives and a wide range of views required by the statute would be represented in the project. This sub-criterion would allow expert reviewers to evaluate how effectively the proposed project would address the statutory mandate that project activities reflect diverse perspectives and a wide range of views and generate debate on world regions and international affairs. This approach would complement the current requirement for applicants to submit an assurance on this topic by allowing applicants to receive expert feedback, which they currently do not. The proposed sub-criterion also would provide additional guidance to applicants that the discussion of diverse perspectives should be directly relevant to the proposed project rather than a general statement about institutional practices. This approach would ensure that high scoring applicants would be likely to meet the statutory expectation at the time of application and throughout the grant's performance period.

Proposed § 657.21(e) would add a “Project planning and budget” criterion that would replace current § 657.21(a). This new criterion would enhance transparency and facilitate the efficient allocation of funding by inviting applicants to justify the amount of the requested allocation of fellowships. This criterion complements proposed § 657.21(f), which would address plans for project evaluation. These interrelated criteria would require applicants to explain the intended outcomes for their projects, the anticipated distribution of fellowships and how they would align with the intended outcomes, and the evaluative process that would help determine whether those intended outcomes were being realized during the grant period. These criteria would allow reviewers to determine the excellence of the proposed project in relation to the current operations described in proposed § 657.21(a)-(c).

The proposed selection criteria would also eliminate certain elements of the current selection criteria not already addressed above. Current § 657.21(h)(3) specifically includes the extent to which the institution facilitates student access to other institutions' study abroad and summer language programs. The proposed selection criteria would not include identical provisions. Proposed § 657.21(b)(4) would, however, require applicants to describe formal arrangements for study to conduct research or study abroad relevant to the proposed allocation of fellowships, and would not preclude discussing student access to other institutions' study abroad and summer language programs in this context. The proposed regulations would eliminate current § 657.21(i), “Degree to which priorities are served,” as the Secretary may award points for competitive preference priorities without including such a category in the selection criteria. See generally 34 CFR 75.105(c). Although the Department has never interpreted the regulations to allow it, moreover, removing priorities from the selection criteria also avoids the appearance of allowing applicants to receive points twice for responding to the same competitive preference priority (once through the selection criteria, and once for responding to the priority). This proposed change would not alter the current approach to competitive preference priorities. Current § 657.21(c)(2) requires that an applicant's evaluation plan produce quantifiable, outcome-measure-oriented data. The proposed regulations would eliminate this explicit requirement. Instead, proposed § 657.21(f) would require applicants to describe a more holistic approach to evaluation, including the qualifications of the evaluator(s) and an evaluation plan that is appropriate for the grant project. Although many performance-related data are quantifiable, not all data collected for evaluation purposes are quantifiable. Qualitative data may be a component of an evaluation plan. The proposed regulations also would include a requirement to describe plans to obtain performance feedback and periodic assessment of progress toward meeting intended outcomes, so the proposed approach incorporates an interest in project outcomes. The proposed regulations would provide greater flexibility to applicants when designing an evaluation plan.

Proposed § 657.22 would rephrase the list of priorities in current § 657.22, add three priorities, and drop a priority. The new priority related to stated performance goals in language instruction would reflect the statutory requirements for fellowships and would allow the Secretary to more directly implement this provision when awarding allocations of fellowships. The new priority related to academic terms would allow the Secretary to prioritize academic year or summer fellowships. As described in proposed § 657.30(b), the duration of a fellowship would be related to the types of study, training, or research that are allowable for a fellow. The proposed priority would allow the Secretary to, for example, prioritize intensive language training during a summer term if the Secretary recognized a specific national need for intensive language instruction. The new priority related to the “consultation on areas of national need” would allow the Secretary to select a priority that explicitly reflects the results of the consultation with Federal agencies. While such consultation is required by the statute, this proposed change would enable the Secretary to easily identify a priority for a specific language or world region as aligned with the national needs recognized by Federal agencies, which would better integrate the required consultation and the FLAS Fellowships Program. The proposed regulation would drop a priority related to specific countries because the other priorities would provide a sufficient degree of specificity to select specific world regions in conjunction with specific languages and specific topics of study.

Section 657.30 What are the limitations on fellowships and the use of fellowship funds?

Statute: Section 602(b)-(d) of the HEA (20 U.S.C. 1122(b)-(d)) describe limitations on the use of fellowship funds and authorize the Secretary to set relevant policies.

Current Regulation: Sections 657.30 and 657.33 describe limitations on the use of fellowship funds.

Proposed Regulation: Proposed § 657.30 would consolidate two current sections that discuss limitations on the use of fellowship funds and clarify how funds may be used in frequently encountered situations not currently addressed in part 657.

Reasons: The proposed changes would align the program with developments in postsecondary education. The proposed changes would address distance education in light of the increasing use of this instruction modality and would emphasize that distance education may be appropriate for satisfying the fellowship's course requirements. The Secretary would have flexibility to approve distance education on a case-by-case basis, which would allow consideration of various factors, especially the extent to which the modality would benefit the fellow by enhancing access to advanced training opportunities.

The proposed changes would rephrase and explain in detail the duration of fellowships as well as providing more detail regarding eligibility for the different types of fellowships. In particular, the proposed changes would set forth requirements with regard to dissertation research and dissertation writing fellowships, which were left unstated in the current regulations. The proposed regulations would clearly explain what is required for a student to receive one of these fellowships, which would align the regulations with accepted program management practices.

The proposed changes also introduce a provision regarding internships. FLAS fellows sometimes find that it is useful to undertake an internship in the course of their study. The proposed regulation enables internships at the discretion of the Secretary. Also, the proposed changes make explicit that FLAS grantees must follow the procedures set forth in their applications when they select FLAS fellows. Other accepted practices in the management of these grants are also clearly stated in the proposed changes, including specific requirements that apply to study outside the U.S., the conditions that apply to acceptance of concurrent awards from other Federal agencies, the conditions that apply to a transfer of FLAS funds to another institution, and when FLAS funds may be used for undergraduate travel. Finally, the proposed regulations clarify the policy regarding fellowship vacancies. The proposed changes also would reinforce longstanding program guidance that program administration costs cannot be charged to grants providing an allocation of fellowships under the FLAS Fellowships Program. Grantee IHEs are the beneficiaries of the revenue generated by fellows' payments for tuition and fees, and the selection process is intended to identify IHEs with sufficient administrative capacity to administer an allocation of fellowships. Additional payments for administrative costs would reduce the funds available for fellowships and run counter to the program purpose.

Section 657.33 What are the reporting requirements for grantee institutions and for individual fellows who receive funds under this program?

Statute: Section 602(b)(1) of the HEA (20 U.S.C. 1122(b)(1)) authorizes the Secretary to makes grants to IHEs for the purpose of paying stipends to eligible students. Additionally, 20 U.S.C. 1132-3 authorizes the Secretary to “assess and ensure compliance with all the conditions and terms of grants” provided under title VI of the HEA.

Current Regulation: Current regulations do not address reporting requirements.

Proposed Regulation: Proposed § 657.33 would affirm that all IHEs that receive an allocation of fellowships under this part and all fellows who receive a fellowship under this part are required to abide by all reporting requirements established for the FLAS Fellowships Program.

Reasons: The current regulations do not address the issue of reporting. The proposed changes would address grantee concerns by providing sufficient authority for IHEs to require fellows to submit all reports in a timely manner. This change would enable the Department to improve the efficiency of program administration by promoting the collection of complete and accurate records about fellows during the fellowship period.

Executive Orders 12866, 13563, and 14094

Regulatory Impact Analysis

Under Executive Order 12866, the Office of Management and Budget (OMB) must determine whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (as of 2023 but adjusted every 3 years by the Administrator of OIRA for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities, or the principles stated in the Executive order, as specifically authorized in a timely manner by the Administrator of OIRA in each case.

This proposed regulatory action is not a significant regulatory action subject to review by OMB under section 3(f) of Executive Order 12866, as amended by Executive Order 14094.

We have also reviewed the proposed regulations under Executive Order 13563, which supplements and explicitly reaffirms the principles, structures, and definitions governing regulatory review established in Executive Order 12866 (as amended by Executive Order 14094). To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” OMB's OIRA has emphasized that these techniques may include “identifying changing future compliance costs that might result from technological innovation or anticipated behavioral changes.”

We are issuing the proposed regulations only on a reasoned determination that their benefits justify any associated costs. Based on the analysis that follows, the Department believes that the proposed regulations are consistent with the principles in Executive Order 13563.

We also have determined that this regulatory action does not unduly interfere with State, local, territorial, or Tribal governments in the exercise of their governmental functions.

In accordance with these Executive orders, the Department has assessed the potential costs and benefits, both quantitative and qualitative, of this regulatory action. The potential costs associated with this regulatory action are those resulting from statutory requirements and those we have determined as necessary for administering the Department's programs and activities.

Discussion of Costs and Benefits

The potential costs to applicants, grant recipients, and the Department associated with the proposed regulatory change would be minimal, while there would be greater potential benefits to applicants, grant recipients, and the Department.

We anticipate a minimal increase in NRC Program and FLAS Fellowships Program applications as a result of revising the selection criteria, so we foresee minimal impact on the Department's time and cost of reviewing these applications.

Over the last four years, the amount of funding for the NRC Program has ranged from approximately $23.7 to $29.3 million per year with 155 eligible grant applications received and reviewed in the most recent competition. Of these applicants, 98 received grant awards in fiscal year 2022, and an additional 15 of these applicants ultimately received grant awards through funding down the slate in fiscal year 2023. Over the same period, the amount of funding for the FLAS Fellowships Program has remained stable at approximately $31.2 million per year, with 160 eligible grant applications received and reviewed in the most recent competition. We awarded grants to 112 of these applications in fiscal year 2022.

The number of applications for both programs has remained relatively steady across recent competitions, but the number of grant awards for the NRC Program has increased slightly after funding down the slate. The Department expects the number of applications and grant rewards to remain similar in future years.

The proposed changes to the selection criteria would require the Department to develop new technical review forms. The proposed regulations also would require the Department to update program guidance and technical assistance materials for applicants, peer reviewers, and grant recipients. The Department anticipates the costs associated with these activities to be minimal, because we already engage in an ongoing process to revise, update, and improve these materials for each competition for these programs.

Similarly, any revisions to the selection criteria would have no effect on current grant recipients under both programs. The Department also believes the proposed revisions would have little net effect on applicants. Applicants already develop new applications for each competition in response to a Notice Inviting Applications that may contain new competitive preference priorities or a new allocation of points for the existing selection criteria. The proposed selection criteria refer to similar types of data as the current selection criteria. The Department foresees that the costs for applicants and grant recipients that result from the proposed changes to the selection criteria would be minimal.

The Department foresees that current grant recipients under the FLAS Fellowships Program may incur minor costs associated with program administration due to the revised program regulations. Although the regulations would not make any major changes to the FLAS Fellowships Program, the regulations would be expanded to address new issues by codifying current guidance from the Department. As a result, grant recipients would need to familiarize themselves with the new regulations and update any references to the regulations that appear in their documents developed to assist program administration, especially in documents distributed to students and current and prospective fellows.

The benefits of amending these regulations include (1) clarifying statutory language, (2) redesigning the selection criteria to reduce redundancy to improve the application process, and (3) updating the current regulations to reflect current practices in program administration and relevant fields of education. We anticipate that the clarifications, reductions to the number of selection criteria, and adjustments to administration will reduce the burden on applicants and grant recipients for both the NRC Program and FLAS Fellowships Program.

Alternatives Considered

The Department reviewed and assessed various alternatives to the proposed regulations. The Department considered maintaining current regulations and developing additional technical assistance and guidance to address emerging topics in modern foreign language and area studies education, especially distance education. The Department also considered developing extensive new technical assistance and guidance to explain the differences that exist among similar sections of the regulations for both programs. The Department determined that revising the regulations was the most efficient option to decrease administrative burden and ensure that the programs fulfill their statutory purposes.

Elsewhere in this section under Paperwork Reduction Act of 1995, we identify and explain burdens specifically associated with information collection requirements.

Clarity of the Regulation

Executive Order 12866 and the Presidential memorandum “Plain Language in Government Writing” require each agency to write regulations that are easy to understand. The Secretary invites comments on how to make the proposed regulation easier to understand, including answers to questions such as the following:

(a) Are the requirements in the proposed regulations clearly stated?

(b) Do the proposed regulations contain technical terms or other wording that interferes with their clarity?

(c) Do the format of the proposed regulations (use of headings, paragraphing, etc.) aid or reduce their clarity?

(d) Would the proposed regulations be easier to understand if we divided them into more (but shorter) sections? (A “section” is preceded by the symbol “§ ” and a numbered heading; for example, § 106.9 Dissemination of policy.)

(e) Could the description of the proposed regulations in the SUPPLEMENTARY INFORMATION section of this preamble be more helpful in making the proposed regulations easier to understand? If so, how?

(f) What else could we do to make the proposed regulations easier to understand?

To send any comments that concern how the Department could make these proposed regulations easier to understand, see the instructions in the ADDRESSES section.

Regulatory Flexibility Act Certification

The Secretary certifies that the proposed regulations would not have a significant economic impact on a substantial number of small entities.

The small entities that would be affected by the proposed regulations are IHEs that would submit applications to the Department under this program.

The Small Business Administration (SBA) defines “small institution” using data on revenue, market dominance, tax filing status, governing body, and population. The majority of entities to which the Office of Postsecondary Education's (OPE) regulations apply are postsecondary institutions, however, which do not report such data to the Department. As a result, for purposes of these proposed regulations, the Department continues to define “small entities” by reference to enrollment, to allow meaningful comparison of regulatory impact across all types of higher education institutions. The enrollment standard for small less-than-two-year institutions (below associate degrees) is less than 750 full-time-equivalent (FTE) students and for small institutions of at least two but less-than-4-years, and 4-year institutions, less than 1,000 FTE students.¹ As a result of discussions with the Small Business Administration, this is an update from the standard used in some prior rules. Those prior rules applied an enrollment standard for a small two-year institution of less than 500 full-time-equivalent (FTE) students and for a small 4-year institution, less than 1,000 FTE students.² The Department consulted with the Office of Advocacy for the SBA and the Office of Advocacy has approved the revised alternative standard. The Department continues to believe this approach most accurately reflects a common basis for determining size categories that is linked to the provision of educational services and that it captures a similar universe of small entities as the SBA's revenue standard.

¹ In regulations prior to 2016, the Department categorized small businesses based on tax status. Those regulations defined “nonprofit organizations” as “small organizations” if they were independently owned and operated and not dominant in their field of operation, or as “small entities” if they were institutions controlled by governmental entities with populations below 50,000. Those definitions resulted in the categorization of all private nonprofit organizations as small and no public institutions as small. Under the previous definition, proprietary institutions were considered small if they are independently owned and operated and not dominant in their field of operation with total annual revenue below $7,000,000. Using FY 2017 IPEDs finance data for proprietary institutions, 50 percent of 4-year and 90 percent of 2-year or less proprietary institutions would be considered small. By contrast, an enrollment-based definition applies the same metric to all types of institutions, allowing consistent comparison across all types.

² In those prior rules, at least two but less-than-four-years institutions were considered in the broader two-year category. In this iteration, after consulting with the Office of Advocacy for the SBA, we separate this group into its own category.

Table 1—Small Institutions Under Enrollment-Based Definition
Level | Type | Small | Total | Percent
2-year | Public | 328 | 1,182 | 27.75
2-year | Private | 182 | 199 | 91.46
2-year | Proprietary | 1,777 | 1,952 | 91.03
4-year | Public | 56 | 747 | 7.50
4-year | Private | 789 | 1,602 | 49.25
4-year | Proprietary | 249 | 331 | 75.23
Total |  | 3,381 | 6,013 | 56.23
Source: 2018-19 data reported to the Department.

As the table indicates, these proposed regulations would affect institutions of higher education that meet the definition of small entities. They would not have a significant economic impact on these entities, however, because they would not impose excessive regulatory burdens or require unnecessary Federal supervision. The proposed regulations would impose minimal requirements to ensure the proper expenditure of program funds. We invite the public to comment on our certification that these regulations would not have a significant economic impact on a substantial number of small entities.

Paperwork Reduction Act of 1995

As part of its continuing effort to reduce paperwork and respondent burden, the Department provides the general public and Federal agencies with an opportunity to comment on proposed and continuing collections of information in accordance with the Paperwork Reduction Act of 1995 (PRA) (44 U.S.C. 3506(c)(2)(A)). This helps ensure that the public understands the Department's collection instructions, respondents can provide the requested data in the desired format, reporting burden (time and financial resources) is minimized, collection instruments are clearly understood, and the Department can properly assess the impact of collection requirements on respondents.

Sections 656.21, 656.22, 656.23, and 657.21 of the proposed regulations contain information collection requirements. Under the PRA, the Department has submitted a copy of these sections to OMB for its review.

A Federal agency may not conduct or sponsor a collection of information unless OMB approves the collection under the PRA and the corresponding information collection instrument displays a currently valid OMB control number. Notwithstanding any other provision of law, no person is required to comply with, or is subject to penalty for failure to comply with, a collection of information if the collection instrument does not display a currently valid OMB control number.

In the final regulations, we will display the control number assigned by OMB to any information collection requirements proposed in this NPRM and adopted in the final regulations.

The information collection that would be impacted by these proposed regulatory changes is the current Application for the NRC and FLAS Fellowships Programs (1840-0807). This information collection includes application instructions and forms for the NRC Program (ALN Number 84.015A) and the FLAS Fellowships Program (ALN Number 84.015B), authorized under title VI of the Higher Education Act of 1965, as amended (20 U.S.C. 1122).

The NRC Program provides grants to IHEs or consortia of IHEs to establish, strengthen, and operate comprehensive and undergraduate foreign language and area or international studies centers. These centers serve as centers of excellence for world language training and teaching, research, and instruction in fields needed to provide full understanding of areas, regions, or countries where the languages are commonly used.

The FLAS Fellowships Program awards allocations of fellowships, through institutions of higher education or consortia of institutions of higher education, to meritorious students enrolled in programs that offer performance-based instruction in world languages in combination with area studies, international studies, or the international aspects of professional studies.

Together, these programs respond to the ongoing national need for individuals with expertise and competence in world languages and area or international studies; advance national security by developing a pipeline of highly proficient linguists and experts in critical world regions; and contribute to developing a globally competent workforce able to engage with a multilingual/multicultural clientele at home and abroad.

Eligible institutions of higher education use the information collection to submit applications to the Department of Education (ED) to request funding in response to the competition announcement. After grant applications are submitted, the Department determines the budget and staff resources it needs to conduct the peer review of applications and post award activities. External review panels use the information to evaluate grant applications and to identify high-quality applications. When developing funding slates, ED program officials consider the evaluations from the expert review panels, in conjunction with the NRC and FLAS legislative purposes and any Administration priorities. ED program officials also use the collection to inform strategic planning; to establish goals, performance measures and objectives; to develop monitoring plans; or to align program assessment standards with Department performance goals and initiatives.

Over many grant cycles, administering the NRC and FLAS grant competitions using the current selection criteria has been unwieldy and burdensome for both applicants and peer reviewers. The Secretary proposes changes to the selection criteria to clarify selection criteria, eliminate redundant criteria, reduce the burden on applicants and peer reviewers, and improve alignment with the statute, particularly with regard to comprehensive and undergraduate Centers. The Secretary proposes reducing the comprehensive NRC selection criteria from 10 criteria with 27 sub-criteria to six criteria with 24 sub-criteria; the undergraduate NRC selection criteria from 10 criteria with 26 sub-criteria to six criteria with 24 sub-criteria; and the FLAS selection criteria from nine criteria with 22 sub-criteria to six criteria with 22 sub-criteria. The proposed criteria include some new criteria for the NRC Program, including a “quality of existing academic programs” criterion, and also for FLAS, including “project design and rationale” and “project planning and budget” criteria.

ED's Office of Postsecondary Education, International and Foreign Language Education (OPE-IFLE) has used the information received for the current collection to develop technical assistance materials for grantees, such as program administration manuals and technical assistance Webinars, to inform the performance reporting requirements for these programs, and to demonstrate the impact of these programs.

Competitions for these grants occur once every four years. The data in the table is an estimate of the time it takes for respondents to complete official forms, develop the application narrative and budget, and submit completed applications through the Grants.gov system.

The NRC application (1840-0807) would be affected by the proposed changes to the NRC selection criteria (§§ 656.21, 656.22, and 656.23), which require changes on the application package and technical review forms. This information collection would no longer address aspects of the FLAS program. The proposed changes to the NRC selection criteria would clarify interpretations of statutory language and redesign the selection criteria. The proposed regulations would remove ambiguity and redundancy in the selection criteria and definitions of key terms, improve the application process, and align the administration of the programs with the developments in modern foreign languages and area studies education.

The FLAS application (1840-NEW) would be affected by the proposed changes to the FLAS selection criteria (§§ 657.21), which require changes on the application package and technical review forms. This new information collection would reflect the separation of the applications for the NRC and FLAS programs. The proposed changes to the FLAS selection criteria would clarify interpretations of statutory language and redesign the selection criteria. The proposed regulations would remove ambiguity and redundancy in the selection criteria and definitions of key terms, improve the application process, and align the administration of the programs with the developments in modern foreign languages and area studies education.

Previously, both applications were combined into one information collection for the Application for the NRC and FLAS Fellowships Programs (1840-0807). The proposed regulations would necessitate fully separating the information collection into two distinct information collections. Accordingly, the burdens associated with these information collections are derived from the burden associated with the current version of the Application for the NRC and FLAS Fellowships Programs (1840-0807). Taken together, proposed selection criteria would reduce the hour burden per response by one hour, from 27 to 26. When multiplied by 165 respondents, this change would result in a decrease in Total Annual Burden hours from 4,455 to 4,290. The Total Annual Costs would decrease from $334,125 to $321,750.

The NRC and FLAS programs compete only once every four years. The application packages are cleared with OMB once every three years. For every three-year clearance period, the competitions are run once. Because of the separation of the two information collections, the Total Annual Burden Hours and Total Annual Costs are halved, as demonstrated in the tables below. For both the NRC Program and the FLAS Fellowships Program, 26 hours to complete both applications is reduced to 13 hours each. When multiplied by 165 respondents this yields Total Annual Burden Hours of 2,145 and Total Annual Costs of $160,875. Averaged over three years, the Total Annual Burden Hours are reduced to 715 and the Total Annual Costs are reduced to $52,301 for each program.

NRC Program (1840-0807)
Affected type | Number of respondents | Number of responses | Average burden hours per response | Estimated respondent average hourly wage | Total annual burden hours | Total annual costs
Institutions, private or non-profit | 165 | 165 | 13 | $75 | 2,145 | $160,875

FLAS Fellowships Program (1840-NEW)
Affected type | Number of respondents | Number of responses | Average burden hours per response | Estimated respondent average hourly wage | Total annual burden hours | Total annual costs
Institutions, private or non-profit | 165 | 165 | 13 | $75 | 2,145 | $160,875

The NRC application (1840-0807) would be affected by the proposed changes to the NRC selection criteria (§§ 656.21, 656.22, and 656.23), which would require changes on the application package and technical review forms.

Regulatory section | Information collection | OMB control No. and estimated burden
§§ 656.21, 656.22, 656.23, and 657.21 | These proposed regulatory provisions would require changing the application package and technical review forms to reflect the modified selection criteria for this program | 1840-0807. The number of respondents would remain constant at 165 and the number of total burden hours for the application would be reduced to 2,145 when averaged over three years. The averaged total cost would be reduced to $160,875.

The FLAS application (1840-NEW) would be affected by the proposed changes to the FLAS selection criteria (§ 657.21), which would require changes on the application package and technical review forms.

Regulatory section | Information collection | OMB control No. and estimated burden
§ 657.21 | These proposed regulatory provisions would require changing the application package and technical review forms to reflect the modified selection criteria for this program | 1840-NEW. The number of respondents would remain constant at 165 and the number of total burden hours for the application would be reduced to 2,145 when averaged over three years. The averaged total cost would be reduced to $160,875.

We have prepared Information Collection Requests for these information collection requirements. If you wish to review and comment on the Information Collection Requests, please follow the instructions in the ADDRESSES section of this notification.

Note: The Office of Information and Regulatory Affairs in OMB and the Department review all comments posted at www.regulations.gov.

Note: The Office of Information and Regulatory Affairs in OMB and the Department review all comments posted at www.regulations.gov.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques.

OMB must make a decision concerning the collection of information contained in these proposed regulations between 30 and 60 days after publication of this document in the Federal Register. Therefore, to ensure that OMB gives your comments full consideration, it is important that OMB receives your comments by March 25, 2024. This does not affect the deadline for your comments to us on the proposed regulations. If your comments relate to the Information Collection Requests for these proposed regulations, please specify the Docket ID number and indicate “Information Collection Comments” on the top of your comments.

Intergovernmental Review

The proposed regulations are not subject to Executive Order 12372 and the regulations in 34 CFR part 79.

Assessment of Educational Impact

In accordance with section 411 of the General Education Provisions Act (GEPA), 20 U.S.C. 1221e-4, the Secretary particularly requests comments on whether the proposed regulations would require transmission of information that any other agency or authority of the United States gathers or makes available.

Federalism

Executive Order 13132 requires us to ensure meaningful and timely input by State and local elected officials in the development of regulatory policies that have federalism implications. “Federalism implications” means substantial direct effects on the States, on the relationship between the National Government and the States, or on the distribution of power and responsibilities among the various levels of government. The proposed regulations do not have federalism implications.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or PDF. To use PDF you must have Adobe Acrobat Reader, which is available at no cost to the user at the site.

You may also access documents of the Department published in the Federal Register by using the article search feature at www.federalregister.gov. Specifically, through the advanced search feature at this site, you can limit your search to documents published by the Department.

List of Subjects

34 CFR Part 655

Colleges and universities, Cultural exchange programs, Educational research, Educational study programs, Grant programs—education, Scholarships and fellowships.

34 CFR Part 656

Colleges and universities, Cultural exchange programs, Educational research, Educational study programs, Grant programs—education, Reporting and recordkeeping requirements.

34 CFR Part 657

Colleges and universities, Cultural exchange programs, Educational study programs, Grant programs—education, Reporting and recordkeeping requirements, Scholarships and fellowships.

Miguel A. Cardona,
Secretary of Education.

For the reasons discussed in the preamble, the Secretary of Education proposes to amend parts 655, 656, and 657 of title 34 of the Code of Federal Regulations as follows:

PART 655—INTERNATIONAL EDUCATION PROGRAMS—GENERAL PROVISIONS

1. The authority citation for part 655 is revised to read as follows:

Authority: 20 U.S.C. 1121-1130b and 1132-1132-7, unless otherwise noted.

2. Amend § 655.1 by revising paragraph (a) to read as follows:

§ 655.1 Which programs do these regulations govern?

* * * * *

(a) The National Resource Centers Program for Foreign Language and Area Studies and the Foreign Language and Area Studies Fellowships Program (section 602 of the Higher Education Act of 1965, as amended);

* * * * *

§ 655.3 [Amended]

3. Amend § 655.3 by:

a. Removing paragraphs (a) and (d).

b. Redesignating paragraphs (b) through (c) as paragraphs (a) through (b).

4. Revise § 655.4 to read as follows:

§ 655.4 What definitions apply to the International Education Programs?

(a) The following terms used in this part and 34 CFR parts 656, 657, 658, 660, 661, and 669 are defined in 2 CFR part 200, subpart A, 34 CFR 77.1, 34 CFR 600.2, or 34 CFR 668.2:

Academic engagement

Acquisition

Applicant

Application

Award

Budget

Clock hour

Contract

Correspondence course

Credit hour

Distance education

Educational program

EDGAR

Enrolled

Equipment

Facilities

Fiscal year

Full-time student

Graduate or professional student

Grant

Grantee

Grant period

Half-time student

Local educational agency

National level

Nonprofit

Project

Project period

Private

Public

Regular student

Secretary

State educational agency

Supplies

Undergraduate student

(b) The following definitions apply to International Education Programs:

Area studies means a program of comprehensive study of the aspects of a world area's society or societies, including study of history, culture, economy, politics, international relations, and languages.

Areas of national need means the various needs in the government, education, business, and nonprofit sectors for expertise in foreign language, area, and international studies identified by the Secretary as significant for maintaining or improving the security, stability, and economic vitality of the United States.

Consortium of institutions of higher education means a group of institutions of higher education that have entered into a cooperative arrangement for the purpose of carrying out a common objective, or a public or private nonprofit agency, organization, or institution designated or created by a group of institutions of higher education for the purpose of carrying out a common objective on their behalf.

Consultation on areas of national need means the process that allows the head officials of a wide range of Federal agencies to consult with the Secretary and provide recommendations regarding national needs for expertise in foreign languages and world areas that the Secretary may take into account when identifying areas of national need.

Diverse perspectives means a variety of viewpoints relevant to understanding global or international issues in context, especially those derived from scholarly research or sustained professional activities and community engagement abroad, and relevant to building multi-faceted knowledge and expertise in area studies, international studies, and the international aspects of professional studies, including issues related to world regions, foreign languages, and international affairs, among stakeholders.

Educational program abroad means a program of study, internship, or service learning outside the United States that is part of a foreign language or other international curriculum at the undergraduate or graduate education level.

Institution of higher education means an institution that meets the definition in section 101(a) of the Higher Education Act of 1965, as amended, as well as an institution that meets the requirements of section 101(a) except that—

(1) It is not located in the United States; and

(2) It applies for assistance under title VI of the Higher Education Act of 1965, as amended, in consortia with institutions that meet the definition in section 101(a).

Intensive language instruction means instruction of at least five contact hours per week during the academic year or the equivalent of a full academic year of language instruction during the summer.

5. Revise § 655.30 to read as follows:

§ 655.30 How does the Secretary evaluate an application?

The Secretary evaluates applications for International Education Programs using the criteria described in one or more of the following:

(a) The general criteria in § 655.31.

(b) The specific criteria, as applicable, in subpart C of 34 CFR parts 656 and 657, or subpart D of 34 CFR parts 658, 660, 661, and 669.

6. Amend § 655.31 by revising paragraph (e)(2)(i) to read as follows:

§ 655.31 What general selection criteria does the Secretary use?

* * * * *

(e) * * *

(2) * * *

(i) Facilities (including but not limited to language laboratory, museums, or library) that the applicant plans to use are adequate; and

* * * * *

PART 656—NATIONAL RESOURCE CENTERS PROGRAM FOR FOREIGN LANGUAGE AND AREA STUDIES OR FOREIGN LANGUAGE AND INTERNATIONAL STUDIES

7. Revise part 656 to read as follows:

PART 656—NATIONAL RESOURCE CENTERS PROGRAM FOR FOREIGN LANGUAGE AND AREA STUDIES

Subpart A—General
Sec.
656.1 What is the purpose of the National Resource Centers Program?
656.2 What entities are eligible to receive a grant?
656.3 What defines a comprehensive or undergraduate National Resource Center?
656.4 For what special purposes may a Center receive an additional grant under this part?
656.5 What regulations apply to this program?
656.6 What definitions apply to this program?
656.7 Severability.
Subpart B—How does an eligible institution apply for a grant?
656.10 How does an institution submit a grant application?
656.11 What assurances and other information must an applicant include in an application?
Subpart C—How does the Secretary make a grant?
656.20 How does the Secretary select applications for funding?
656.21 What selection criteria does the Secretary use to evaluate an application for a comprehensive Center?
656.22 What selection criteria does the Secretary use to evaluate an application for an undergraduate Center?
656.23 What selection criteria does the Secretary use to evaluate an application for an additional special purpose grant to a Center?
656.24 What priorities may the Secretary establish?
Subpart D—What conditions must be met by a grantee?
656.30 What activities and costs are allowable?

Authority: 20 U.S.C. 1121, 1122, 1127, and 1132 unless otherwise noted.

Subpart A—General

§ 656.1 What is the purpose of the National Resource Centers Program?

Under the National Resource Centers Program for Foreign Language and Areas Studies (National Resource Centers Program), the Secretary awards grants to institutions of higher education and consortia of institutions to establish, strengthen, and operate comprehensive and undergraduate Centers that act cooperatively as national resources for—

(a) Teaching of modern foreign languages, especially less commonly taught languages;

(b) Instruction in fields of study needed to provide full understanding of areas, regions, or countries in which such languages are commonly used;

(c) Research and training in international studies and the international and foreign language aspects of professional and other fields of study; and

(d) Instruction and research on issues in world affairs that concern one or more countries.

§ 656.2 What entities are eligible to receive a grant?

(a) An institution of higher education or a consortium of institutions of higher education is eligible to receive a grant under this part as either a comprehensive Center or undergraduate Center.

(b) An institution of higher education or a consortium of institutions of higher education that has received a grant under this part as either a comprehensive Center or undergraduate Center is eligible to receive an additional grant under this part for special purposes related to library collections, outreach, and summer institutes, as described in § 656.4.

§ 656.3 What defines a comprehensive or undergraduate National Resource Center?

(a) A Center's area of focus must be aligned with all of the following:

(1) A geographic world area that serves as the focus of research, teaching, training, and instruction.

(2) Opportunities available at the institution for teaching, training, research, and instruction in specific languages, countries, regions, societies, or other units of analysis relevant to the chosen geographic world area.

(b) A comprehensive Center is an administrative unit of an eligible institution of higher education that independently or through collaboration with other administrative units—

(1) Provides intensive modern foreign language training, especially for less commonly taught languages, in the Center's area of focus;

(2) Contributes significantly to the national interest in advanced research and scholarship in the Center's area of focus;

(3) Employs a critical mass of scholars in diverse disciplines related to the Center's area of focus;

(4) Maintains important library collections related to the Center's area of focus;

(5) Makes training available in language and area studies in the Center's area of focus, to graduate, postgraduate, and undergraduate students;

(6) Addresses national needs for modern foreign language and area studies expertise and knowledge, including through, but not limited to, the placement of students into postgraduate employment, education, or training in areas of need; and

(7) Disseminates information about the Center's area of focus to audiences in the United States.

(c) An undergraduate Center independently or through collaboration with other administrative units—

(1) Teaches modern foreign languages, especially less commonly taught languages, related to the Center's area of focus;

(2) Prepares undergraduate students to matriculate into advanced modern foreign language and area studies programs and professional school programs;

(3) Incorporates substantial content related to the Center's area of focus into baccalaureate degree programs;

(4) Engages in research and curriculum development designed to broaden knowledge and expertise related to the Center's area of focus;

(5) Employs faculty with strong language, area, and international studies credentials related to the Center's area of focus;

(6) Maintains library holdings sufficient to support high-quality training and instruction in the Center's area of focus for undergraduate students;

(7) Makes training available predominantly to undergraduate students in support of the objectives of an undergraduate institution;

(8) Addresses national needs for language and area studies expertise and knowledge, including through, but not limited to, the placement of undergraduate students into postgraduate employment, education, or training in areas of need; and

(9) Disseminates information about the Center's area of focus to audiences in the United States.

§ 656.4 For what special purposes may a Center receive an additional grant under this part?

The Secretary may make additional grants to Centers for one or more of the following purposes:

(a) Linkage or outreach between foreign language, area studies, and other international fields and professional schools and colleges.

(b) Linkage or outreach with 2- and 4-year colleges and universities.

(c) Linkage or outreach between or among—

(1) Postsecondary programs or departments in foreign language, area studies, or other international fields; and

(2) State educational agencies or local educational agencies.

(d) Partnerships or programs of linkage and outreach with departments or agencies of Federal and State governments, including Federal or State scholarship programs for students in related areas.

(e) Linkage or outreach with the news media, business, professional, or trade associations.

(f) Summer institutes in area studies, foreign language, or other international fields designed to carry out the activities in paragraphs (a), (b), (d), and (e) of this section.

(g) Maintenance of important library collections.

§ 656.5 What regulations apply to this program?

The following regulations apply to this program:

(a) The regulations in 34 CFR part 655.

(b) The regulations in this part 656.

§ 656.6 What definitions apply to this program?

The following definitions apply to this part:

(a) The definitions in 34 CFR part 655.

(b) The following definitions, unless otherwise specified:

Critical mass of scholars means a concentration of modern foreign language and area studies faculty, researchers, and other similar personnel associated with a Center who collectively make significant contributions in a field of area studies because of their expertise and are distinguished by their training in many different academic disciplines in addition to their active engagement in interdisciplinary initiatives related to the Center's area of focus. The following are examples of other factors that may be considered in determining whether there is a critical mass of scholars:

(i) Whether instruction in many foreign languages is offered.

(ii) Whether specialized area studies or language instruction is regularly offered.

(iii) The number of graduate student research projects (dissertations, theses, or equivalents) supervised.

(iv) The degree of collaboration with international partners.

(v) Participation in professional activities or consultations with partners outside academia.

(vi) Professional awards and honors.

(vii) Roles in professional associations.

(viii) Activities funded by external grants.

(ix) The number of scholars relative to all similarly qualified individuals in the United States.

Institution means an institution of higher education, as defined in 34 CFR part 655. References to an institution include all institutions of higher education that operate as a consortium under this part.

National Resource Center (Center) means an administrative unit within an institution of higher education that is a grantee under this part that coordinates educational initiatives related to an area of focus as described in § 656.3(a) at that institution or for a consortium of institutions through direct access to faculty, staff, administrators, students, library collections and other research collections, and other educational resources that support research, training, and instruction in various academic disciplines, professional fields, and languages.

§ 656.7 Severability.

If any provision of this part or its application to any person, act, or practice is held invalid, the remainder of the part or the application of its provisions to any other person, act, or practice will not be affected thereby.

Subpart B—How does an eligible institution apply for a grant?

§ 656.10 How does an institution submit a grant application?

The application notice published in the Federal Register explains how to apply for a new grant under this part.

§ 656.11 What assurances and other information must an applicant include in an application?

(a) Each institution of higher education, including each member of a consortium, applying for a grant under this part must provide all of the following:

(1) An explanation of how the activities funded by the grant will reflect diverse perspectives, as defined in part 655, and a wide range of views and generate debate on world regions and international affairs.

(2) A description of how the applicant will encourage government service in areas of national need, as identified by the Secretary, as well as in areas of need in the education, business, and nonprofit sectors.

(b) An applicant must submit an Applicant Profile Form, as described in the application package.

(c) Each consortium applying for an award under this part must submit a group agreement (consortium agreement) that addresses the required elements of 34 CFR 75.128 and describes a rationale for the formation of the consortium.

Subpart C—How does the Secretary make a grant?

§ 656.20 How does the Secretary select applications for funding?

(a) The Secretary evaluates an application for a comprehensive Center under the criteria contained in § 656.21, and for an undergraduate Center under the criteria contained in § 656.22. The Secretary evaluates applications for additional special purpose grants to Centers under the criteria contained in § 656.23.

(b) The Secretary informs applicants of the maximum possible score for each criterion in the application package or in a notice published in the Federal Register.

(c) The Secretary makes grant awards using a peer review process. Applications that share the same or similar area of focus, as declared by each applicant under § 656.3(a), are grouped together for purposes of review. Each application is reviewed for excellence based on the applicable criteria referenced in paragraph (a) of this section. Applications are then ranked within each area of focus.

(d) The Secretary may determine a minimum total score required to demonstrate a sufficient degree of excellence to qualify for a grant under this part.

(e) If insufficient money is available to fund all applications demonstrating a sufficient degree of excellence as determined under paragraphs (a), (c), and (d) of this section, the Secretary considers the degree to which priorities derived from the consultation on areas of national need or established under the provisions of § 656.24 and relating to specific countries, world areas, or languages are served when selecting applications for funding and determining the amount of a grant.

§ 656.21 What selection criteria does the Secretary use to evaluate an application for a comprehensive Center?

The Secretary evaluates an application for a comprehensive Center on the basis of the criteria in this section.

(a) Center scope, personnel, and operations. The Secretary reviews each application to determine one or more of the following:

(1) The extent to which the proposed Center's area of focus meets the requirements in § 656.3(a).

(2) The extent to which the Project Director and other staff are qualified to administer the proposed Center, including the degree to which they engage in ongoing professional development activities relevant to their roles at the proposed Center.

(3) The adequacy of governance and oversight arrangements for the proposed Center, including the extent to which faculty from a variety of academic units participate in administration and oversee outreach activities, and, for a consortium, the extent to which the consortium agreement demonstrates commitment to a common objective.

(4) The extent to which the institution provides or will provide financial, administrative, and other support to the operation of the proposed Center at a level sufficient to enable the administration of the proposed project and coordination of educational initiatives in the proposed Center's area of focus.

(5) The extent to which the proposed Center, as part of its nondiscriminatory employment practices for Center staff, encourages applications for employment from persons who are members of groups that have been traditionally underrepresented based on race, color, national origin, gender, age or disability.

(b) Quality of existing academic programs. The Secretary reviews each application to determine one or more of the following:

(1) The extent to which the institution makes high-quality training, especially integrated interdisciplinary training in modern foreign languages and area studies, appropriate to the applicant's area of focus, available in the curricula for graduate, professional, and undergraduate students in a wide variety of educational programs.

(2) The extent to which the institution routinely provides language instruction, including intensive language instruction, relevant to the applicant's area of focus at multiple levels, as well as the degree to which these offerings represent distinctive commitments to depth or breadth.

(3) The extent to which qualified experts at the institution provide modern foreign language instruction in the applicant's area of focus, as well as the degree to which this instruction utilizes stated performance goals for functional foreign language use and the degree to which stated performance goals are met or are likely to be met by students.

(4) The extent to which the institution employs a critical mass of scholars in the applicant's area of focus, including the degree to which the institution employs enough qualified tenured and tenure-track faculty with teaching and advising responsibilities to enable the applicant to carry out interdisciplinary instructional and training programs supported by sufficient depth and breadth of course offerings in the applicant's area of focus.

(c) Impact of existing activities and resources. The Secretary reviews each application to determine one or more of the following:

(1) The extent to which the applicant, affiliated faculty, and institutional partners contribute significantly to the national interest in advanced research and scholarship related to the applicant's area of focus.

(2) The extent to which the institution's library holdings (print and non-print, physical and digital, English and foreign language) and other research collections are important library collections in the applicant's area of focus that support advanced training and research, including the degree to which holdings are made available to researchers throughout the United States, the degree to which collections include unique or rare resources, and the degree to which the collections are supported by experts in the applicant's area of focus.

(3) The extent to which the applicant, including affiliated faculty and institutional partners, generates information about the applicant's area of focus, disseminates this information to various audiences in the United States, and effectively engages those audiences through sustained outreach activities at the regional and national levels that respond to the diverse needs of, for example, elementary and secondary schools, State educational agencies, postsecondary institutions, nonprofit organizations, businesses, the media, and Federal agencies.

(4) The extent to which the applicant's activities address national needs related to language and area studies expertise and knowledge, including, but not limited to, the applicant's record in placing students into post-graduate employment, education, or training in areas of national need related to language and area studies knowledge.

(d) Project design and rationale. The Secretary reviews each application to determine one or more of the following:

(1) The extent to which the outcomes of the proposed project are clearly specified, possible to achieve within the project period, and address specific gaps or weaknesses in services, infrastructure, or opportunities related to the Center's area of focus, the purpose of the National Resource Centers Program described in § 656.1, and the comprehensive type of Center described in § 656.3(b).

(2) The extent to which the project is likely to contribute to meeting national needs related to language and area studies expertise and knowledge, including, but not limited to, by outcomes and other stated efforts related to increasing the number of students that go into post-graduate employment, education, or training in areas of national need.

(3) The extent to which the proposed project is designed to build institutional capacity in the Center's area of focus and sustain results beyond the project period.

(4) The extent to which the proposed project will reflect diverse perspectives, as defined in part 655, and a wide range of views and generate debate on world regions and international affairs.

(e) Project planning and budget. The Secretary reviews each application to determine one or more of the following:

(1) The extent to which all proposed activities are adequately described relative to their contribution to project outcomes.

(2) The extent to which all proposed activities are of high quality, including the degree to which they align with the purpose of the National Resource Centers program described in § 656.1, the comprehensive type of Center described in § 656.3(b), and the proposed project's outcomes.

(3) The extent to which the proposed timeline of activities and other application materials, such as letters of support, demonstrate the feasibility of completing proposed activities during the project period.

(4) The extent to which all costs are itemized in the budget narrative and the costs are reasonable in relation to the objectives, design, and potential significance of the proposed project.

(f) Quality of project evaluation. The Secretary reviews each application to determine one or more of the following:

(1) The extent to which the methods of evaluation are thorough, feasible, and appropriate to the proposed project.

(2) The extent to which the methods of evaluation will provide performance feedback and permit periodic assessment of progress toward achieving intended outcomes.

(3) The qualifications, including relevant training, experience, and independence, of the evaluator(s).

§ 656.22 What selection criteria does the Secretary use to evaluate an application for an undergraduate Center?

The Secretary evaluates an application for an undergraduate Center on the basis of the criteria in this section.

(a) Center scope, personnel, and operations. The Secretary reviews each application to determine one or more of the following:

(1) The extent to which the proposed Center's area of focus meets the requirements in § 656.3(a).

(2) The extent to which the Project Director and other staff are qualified to administer the proposed Center, including the degree to which they engage in ongoing professional development activities relevant to their roles at the proposed Center.

(3) The adequacy of governance and oversight arrangements for the proposed Center, including the extent to which faculty from a variety of academic units participate in administration and oversee outreach activities, and, for a consortium, the extent to which the consortium agreement demonstrates commitment to a common objective.

(4) The extent to which the institution provides or will provide financial, administrative, and other support to the operation of the proposed Center at a level sufficient to enable the administration of the proposed project and coordination of educational initiatives in the proposed Center's area of focus.

(5) The extent to which the proposed Center, as part of its nondiscriminatory employment practices for Center staff, encourages applications for employment from persons who are members of groups that have been traditionally underrepresented based on race, color, national origin, gender, age or disability.

(b) Quality of existing academic programs. The Secretary reviews each application to determine one or more of the following:

(1) The extent to which the institution makes high-quality training, especially integrated interdisciplinary training in modern foreign language and area or international studies, appropriate to the applicant's area of focus, available in educational programs predominantly for undergraduate students in support of the objectives of the undergraduate institution.

(2) The extent to which the institution routinely provides language instruction relevant to the applicant's area of focus, as well as the degree to which these offerings represent distinctive commitments to depth or breadth of coverage.

(3) The extent to which qualified experts at the institution provide modern foreign language instruction in the applicant's area of focus, as well as the degree to which this instruction utilizes stated performance goals for functional foreign language use and the degree to which stated performance goals are met or are likely to be met by students.

(4) The extent to which the institution employs faculty with strong language, area, and international studies credentials related to the applicant's area of focus, including the degree to which the institution employs enough qualified tenured and tenure-track faculty with teaching and advising responsibilities, to enable the applicant to carry out instructional and training programs supported by sufficient depth and breadth of course offerings predominantly for undergraduate students in the applicant's area of focus.

(c) Impact of existing activities and resources. The Secretary reviews each application to determine one or more of the following:

(1) The extent to which the applicant predominantly prepares undergraduate students to matriculate into advanced language and area studies programs and professional school programs, especially through curriculum design, requirements for student research or study abroad opportunities, support for relevant internship or other co-curricular opportunities, or specialized advising.

(2) The extent to which the institution's library holdings (print and non-print, physical and digital, English and foreign language), other research collections, and staffing predominantly support undergraduate training in the applicant's area of focus through the provision of basic reference works, journals, and works in translation.

(3) The extent to which the applicant, including affiliated faculty and institutional partners, generate information about the applicant's area of focus, disseminate this information to various audiences in the United States, and effectively engage those audiences through sustained outreach activities at the regional and national levels that respond to the diverse needs of, for example, elementary and secondary schools, State educational agencies, postsecondary institutions, nonprofit organizations, businesses, the media, and Federal agencies.

(4) The extent to which the applicant's activities address national needs related to language and area studies expertise and knowledge, including, but not limited to, the applicant's record in placing undergraduate students into post-graduate employment, education, or training in areas of national need related to language and area studies knowledge.

(d) Project design and rationale. The Secretary reviews each application to determine one or more of the following:

(1) The extent to which the outcomes of the proposed project are clearly specified, possible to achieve within the project period, and address specific gaps or weaknesses in services, infrastructure, or opportunities related to the Center's area of focus, the purpose of the National Resource Centers program described in § 656.1, and the undergraduate type of Center described in § 656.3(c).

(2) The extent to which the project is likely to contribute to meeting national needs related to language and area studies expertise and knowledge, including, but not limited to, by outcomes and other stated efforts related to increasing the number of undergraduate students that go into post-graduate employment, education, or training in areas of national need.

(3) The extent to which the proposed project is designed to build institutional capacity in the Center's area of focus and sustain results beyond the project period.

(4) The extent to which the proposed project will reflect diverse perspectives, as defined in part 655, and a wide range of views and generate debate on world regions and international affairs.

(e) Project planning and budget. The Secretary reviews each application to determine one or more of the following:

(1) The extent to which all proposed activities are adequately described relative to their contribution to project outcomes.

(2) The extent to which all proposed activities are of high quality, including the degree to which they align with the purpose of the National Resource Centers program as described in § 656.1, the undergraduate type of Center described in § 656.3(c), and the proposed project's outcomes.

(3) The extent to which the proposed timeline of activities and other application materials, such as letters of support, demonstrate the feasibility of completing proposed activities during the project period.

(4) The extent to which all costs are itemized in the budget narrative and the costs are reasonable in relation to the objectives, design, and potential significance of the proposed project.

(f) Quality of project evaluation. The Secretary reviews each application to determine one or more of the following:

(1) The extent to which the methods of evaluation are thorough, feasible, and appropriate to the proposed project.

(2) The extent to which the methods of evaluation will provide performance feedback and permit periodic assessment of progress toward achieving intended outcomes.

(3) The qualifications, including relevant training, experience, and independence, of the evaluator(s).

§ 656.23 What selection criteria does the Secretary use to evaluate an application for an additional special purpose grant to a Center?

The Secretary evaluates an application for a special purpose grant on the basis of one or more of the criteria in this section.

(a) Project design and rationale. The Secretary reviews each application to determine one or more of the following:

(1) The extent to which the project aligns with the Center's approved area of focus under § 656.3(a) and proposes at least one type of activity contained in § 656.4(a)-(g).

(2) The extent to which the outcomes of the proposed project are clearly specified, possible to achieve within the project period, and address specific gaps or weaknesses in services, infrastructure, or opportunities related the Center's area of focus, the purpose of the National Resource Centers program described in § 656.1, and the appropriate type of Center described in § 656.3(b)-(c).

(3) The extent to which the project is likely to contribute to meeting national needs related to language and area studies knowledge or expertise.

(4) The extent to which the proposed project is designed to build institutional capacity and sustain results beyond the project period.

(b) Project planning and budget. The Secretary reviews each application to determine one or more of the following:

(1) The extent to which all proposed activities are adequately described relative to their contribution to project outcomes.

(2) The extent to which all proposed activities are of high quality, including the degree to which they align with the purpose of the National Resource Centers program as described in § 656.1, the appropriate type of Center described in § 656.3(b)-(c), and the proposed project's intended outcomes.

(3) The extent to which the proposed timeline of activities and other application materials, such as letters of support, demonstrate the feasibility of completing proposed activities during the project period.

(4) The extent to which all costs are itemized in the budget narrative and the costs are reasonable in relation to the objectives, design, and potential significance of the proposed project.

(c) Key personnel and project operations. The Secretary reviews each application to determine one or more of the following:

(1) The extent to which project personnel are qualified to oversee and carry out the proposed project.

(2) The adequacy of staffing, governance, and oversight arrangements, and, for a consortium, the extent to which the consortium agreement demonstrates commitment to a common objective.

(d) Quality of project evaluation. The Secretary reviews each application to determine one or more of the following:

(1) The extent to which the methods of evaluation are thorough, feasible, and appropriate to the proposed project.

(2) The extent to which the methods of evaluation will provide performance feedback and permit periodic assessment of progress toward achieving intended outcomes.

(3) The qualifications, including relevant training, experience, and independence, of the evaluator(s).

§ 656.24 What priorities may the Secretary establish?

(a) The Secretary may select one or more of the following funding priorities:

(1) Specific world areas, countries, or societies.

(2) Instruction of specific modern foreign languages.

(3) Modern foreign language instruction at a specific level or degree of intensity, such as intermediate or advanced language instruction, or instruction at an intensity of 10 contact hours or more per week.

(4) Specific areas of national need for expertise in foreign languages and world areas derived from the consultation with Federal agencies on areas of national need.

(5) Specific area of focus, such as a world area or a portion of a world area, e.g., a single country or society, in addition to a specific topic, e.g., economic cooperation, cybersecurity, energy, climate change, translation, genocide prevention, or migration.

(b) The Secretary may select one or more of the activities listed in § 656.4 or § 656.30(a) as a funding priority.

(c) The Secretary announces any priorities in the application notice published in the Federal Register.

Subpart D—What conditions must be met by a grantee?

§ 656.30 What activities and costs are allowable?

(a) Allowable activities and costs. Except as provided under paragraph (b) of this section, a grant awarded under this part may be used to pay all or part of the cost of establishing, strengthening, or operating a comprehensive or undergraduate Center including, but not limited to, the cost of the following:

(1) Supporting instructors of the less commonly taught languages.

(2) Creating, expanding, or improving opportunities for the formal study of the less commonly taught languages related to the Center's area of focus.

(3) Creating or operating summer institutes in the United States or abroad designed to provide modern foreign language and area training in the Center's area of focus.

(4) Cooperating with other Centers to conduct projects that address issues of world, regional, cross-regional, international, or global importance.

(5) Bringing visiting scholars and faculty to the Center to teach, conduct research, or participate in conferences or workshops.

(6) Disseminating information about the Center's area of focus to various audiences in the United States through domestic outreach activities involving, for example, elementary and secondary schools, postsecondary institutions, businesses, and the media.

(7) Funding library acquisitions, the maintenance of library collections, or efforts to enhance access to library collections.

(8) Establishing and maintaining linkages with overseas institutions of higher education and other organizations that may contribute to the teaching and research of the Center's area of focus.

(9) Creating, obtaining, modifying, or improving access to teaching and research materials.

(10) Creating, expanding, or improving activities or teaching materials that are intended to increase modern foreign language proficiency among students in the science, technology, engineering, and mathematics fields.

(11) Conducting projects that encourage and prepare students to seek employment relevant to the Center's area of focus in areas of national need.

(12) Planning or developing curriculum.

(13) Engaging in professional development of the Center's faculty and staff.

(14) Funding salaries and travel for faculty and staff.

(b) Limitations. The following are limitations on allowable activities and costs:

(1) Equipment costs exceeding 10 percent of the grant are not allowable.

(2) Undergraduate student travel is only allowable if the costs are pre-approved by the Secretary and the travel is made in conjunction with a formal program of supervised study in the Center's area of focus.

(3) Grant funds may not be used to supplant funds normally used by grantees for purposes of this part.

(4) Personnel and related costs associated with compensation for the Project Director are not allowable.

(5) Personnel costs and other costs related to the compensation of individuals exceeding 50 percent of a full time equivalent for any individual not directly engaged in the instruction of a less commonly taught language are not allowable.

(6) Costs for international travel are only allowable if a Center has obtained pre-approval from the Secretary.

(7) Activities must be relevant to the Center's area of focus and the type of Center.

PART 657—FOREIGN LANGUAGE AND AREA STUDIES FELLOWSHIPS PROGRAM

8. Revise part 657 to read as follows:

PART 657—FOREIGN LANGUAGE AND AREA STUDIES FELLOWSHIPS PROGRAM

Subpart A—General
Sec.
657.1 What is the Foreign Language and Area Studies Fellowships Program?
657.2 What entities are eligible to receive an allocation of fellowships?
657.3 What are the instructional and administrative requirements for an allocation of fellowships?
657.4 Who is eligible to receive a fellowship?
657.5 What is the amount of a fellowship?
657.6 What regulations apply to this program?
657.7 What definitions apply to this program?
657.8 Severability.
Subpart B—How does an eligible institution or student apply?
657.10 How does an institution submit a grant application?
657.11 What assurances and other information must an applicant institution include in an application?
657.12 How does a student apply for a fellowship?
Subpart C—How does the secretary make a grant?
657.20 How does the Secretary select institutional applications for funding?
657.21 What selection criteria does the Secretary use to evaluate an institutional application for an allocation of fellowships?
657.22 What priorities may the Secretary establish?
Subpart D—What conditions must be met by institutional grantees and fellows?
657.30 What are the limitations on fellowships and the use of fellowship funds?
657.31 What is the payment procedure for fellowships?
657.32 Under what circumstances must an institution terminate a fellowship?
657.33 What are the reporting requirements for grantee institutions and for individual fellows who receive funds under this program?

Authority: 20 U.S.C. 1122 and 1132-3, unless otherwise noted.

Subpart A—General

§ 657.1 What is the Foreign Language and Area Studies Fellowships Program?

Under the Foreign Language and Area Studies Fellowships Program, the Secretary provides allocations of fellowships to Centers and other administrative units at eligible institutions of higher education that award the fellowships on a competitive basis to undergraduate or graduate students who are undergoing advanced training in modern foreign languages and area studies.

§ 657.2 What entities are eligible to receive an allocation of fellowships?

The Secretary awards an allocation of fellowships (grant) to an institution of higher education or to a consortium of institutions of higher education.

§ 657.3 What are the instructional and administrative requirements for an allocation of fellowships?

(a) An allocation of fellowships must support area studies and language instruction that aligns with—

(1) A geographic world area that serves as the focus of training and instruction;

(2) Languages specific to the world area of focus; and

(3) Existing programs or proposed instructional programs that will be developed and implemented during the grant period.

(b) An allocation of fellowships must be administered according to the institution's written plan for distributing fellowships and allowances to eligible fellows for training and instruction during the academic year or summer, provided that—

(1) The fellowship types are described in the budget narrative of an application selected for funding under this part; or

(2) The Secretary has approved any proposed changes to an approved Center or Program's plan.

§ 657.4 Who is eligible to receive a fellowship?

A student must satisfy all of the following criteria during the fellowship period to be eligible to receive a fellowship from an approved Center or Program:

(a) The student is a—

(1) Citizen or national of the United States; or

(2) Permanent resident of the United States.

(b) The student is accepted for enrollment, is enrolled, or will continue to be enrolled in the institution receiving an allocation of fellowships.

(c) The student is pursuing an educational program that—

(1) Includes instruction or a demonstration of proficiency in a modern foreign language related to the allocation of fellowships; and

(2) Includes instruction or, for graduate students, supervised research related to the allocation of fellowships in—

(i) Area studies; or

(ii) The international aspects of professional fields and other fields of study, including but not limited to science, technology, engineering, and mathematics fields.

(d) The student demonstrates—

(1) Commitment to the study of a world area relevant to the allocation of fellowships; and

(2) Potential for high academic achievement based on such indices as grade point average, class ranking, or similar measures that the institution may determine.

(e) The student is engaged in modern foreign language training or instruction in a language—

(1) That is relevant to the student's educational program, as described in paragraph (c) of this section, as well as the allocation of fellowships; and

(2) For which the institution or program has developed or is developing performance goals for foreign language use, and in the case of summer programs has received approval from the Secretary.

(f) The student must engage in the type of training appropriate to their degree status:

(1) Undergraduate students must engage in the study of a less commonly taught language at the intermediate or advanced level.

(2) Non-dissertation or predissertation level graduate students must—

(i) Engage in the study of a modern foreign language at the intermediate or advanced level; or

(ii) Engage in the study of a modern foreign language at the beginning level, provided they demonstrate advanced proficiency in another modern foreign language relevant to their field of study or obtain the permission of the Secretary.

(3) Dissertation level graduate students must—

(i) Engage in dissertation research abroad or dissertation writing in the United States;

(ii) Demonstrate advanced proficiency in a modern foreign language relevant to the dissertation project and the allocation of fellowships; and

(iii) Use modern foreign language(s) relevant to the allocation of fellowships in their dissertation research or writing.

§ 657.5 What is the amount of a fellowship?

(a) Each fellowship consists of a stipend and any additional allowances permitted under this part, as determined by the Secretary and as allocated by an approved Center or Program.

(b) The Secretary announces the following in a notice published in the Federal Register:

(1) The amounts of the stipend for an academic year.

(2) The amounts of the stipend for a summer session.

(3) Whether travel allowances will be permitted.

(4) Whether dependents' allowances will be permitted.

(5) The amounts of any permitted allowances.

§ 657.6 What regulations apply to this program?

The following regulations apply to this program:

(a) The regulations in 34 CFR part 655.

(b) The regulations in this part 657.

§ 657.7 What definitions apply to this program?

The following definitions apply to this part:

(a) The definitions in 34 CFR 655.4.

(b) The following definitions, unless otherwise specified:

Approved center means an administrative unit of an institution of higher education that has both received an allocation of fellowships under this part and a grant to operate a Center under 34 CFR part 656.

Approved program means a concentration of educational resources and activities in modern foreign language training and area studies with the administrative capacity to administer an allocation of fellowships under this part.

Fellow means a person who receives a fellowship under this part.

Fellowship means the payment a fellow receives under this part.

Stipend means the portion of the fellowship paid by the grantee to a fellow in support of living expenses and the costs associated with advanced training in a modern foreign language and area studies.

§ 657.8 Severability.

If any provision of this part or its application to any person, act, or practice is held invalid, the remainder of the part or the application of its provisions to any other person, act, or practice will not be affected thereby.

Subpart B—How does an eligible institution or student apply?

§ 657.10 How does an institution submit a grant application?

The application notice published in the Federal Register explains how to apply for a new grant under this part.

§ 657.11 What assurances and other information must an applicant institution include in an application?

(a) Each eligible institution of higher education, including each member of a consortium of institutions of higher education, applying for an allocation of fellowships under this part must provide all of the following:

(1) An explanation of how the activities funded by the grant will reflect diverse perspectives, as defined in part 655, and a wide range of views and generate debate on world regions and international affairs.

(2) A description of how the applicant will encourage government service in areas of national need, as identified by the Secretary, as well as in areas of need in the education, business, and nonprofit sectors.

(3) An estimated number of the students at the applicant institution who currently meet the fellowship eligibility requirements.

(b) Each applicant institution must submit the Applicant Profile Form provided in the FLAS Fellowships Program application package.

(c) Each consortium of institutions of higher education applying for an award under this part must submit a group agreement (consortium agreement) that addresses the required elements in 34 CFR 75.128 and describes a rationale for the formation of the consortium.

§ 657.12 How does a student apply for a fellowship?

(a) A student must apply for a fellowship directly to an approved Center or Program at an institution of higher education that has received an allocation of fellowships according to the application procedures established by that approved Center or Program.

(b) Individual applicants must provide sufficient information to enable the approved Center or Program at the institution to determine the applicant's eligibility to receive a fellowship and whether the student should be selected according to the selection process established by the approved Center or Program.

Subpart C—How does the Secretary make a grant?

§ 657.20 How does the Secretary select institutional applications for funding?

(a) The Secretary evaluates an institutional application for an allocation of fellowships on the basis of the quality of the applicant's Center or program in modern foreign language and area studies training. The applicant's Center or program is evaluated and approved under the criteria in § 657.21.

(b) The Secretary informs applicants of the maximum possible score for each criterion in the application package or in a notice published in the Federal Register.

(c) The Secretary makes grant awards using a peer review process. Applications that share the same or similar area of focus, as declared by each applicant under § 657.3(a), are grouped together for purposes of review. Each application is reviewed for excellence based on the applicable criteria referenced in paragraph (a) of this section. Applications are then ranked within each area of focus.

(d) The Secretary may determine a minimum total score required to demonstrate a sufficient degree of excellence to qualify for a grant under this part.

(e) If insufficient money is available to fund all applications demonstrating a sufficient degree of excellence as determined under paragraphs (a), (c), and (d) of this section, the Secretary considers the degree to which priorities derived from the consultation on areas of national need or established under the provisions of § 657.22 and relating to specific countries, world areas, or languages are served when selecting applications for funding and determining the amount of a grant.

§ 657.21 What selection criteria does the Secretary use to evaluate an institutional application for an allocation of fellowships?

The Secretary evaluates an institutional application for an allocation of fellowships on the basis of the criteria in this section.

(a) Scope, personnel, and operations. The Secretary reviews each application to determine one or more of the following:

(1) The extent to which the proposed allocation of fellowships meets the requirements in § 657.3(a).

(2) The extent to which the Project Director and other staff are qualified to administer the proposed allocation of fellowships, including the degree to which they engage in ongoing professional development activities relevant to their roles.

(3) The adequacy of governance and oversight arrangements for the proposed allocation of fellowships, and, for a consortium, the extent to which the consortium agreement demonstrates commitment to a common objective.

(4) The extent to which the institution provides or will provide financial, administrative, and other support to the administration of the proposed allocation of fellowships.

(b) Quality of curriculum and instruction. The Secretary reviews each application to determine one or more of the following:

(1) The extent to which the applicant's curriculum provides training options for students from a variety of disciplines and professional fields, and the extent to which the curriculum and associated requirements (including language requirements) are appropriate for the applicant's area of focus and result in educational programs of high quality for students who will be served by the proposed allocation of fellowships.

(2) The levels of instruction offered for the modern foreign languages relevant to the proposed allocation of fellowships, including intensive language instruction, and the frequency with which the courses are offered.

(3) The extent to which the institution's instruction in modern foreign languages relevant to the proposed allocation of fellowships is using or developing stated performance goals for functional foreign language use, as well as the degree to which stated performance goals are met or are likely to be met by students.

(4) The extent to which instruction in modern foreign languages is integrated with area studies courses, for example, area studies courses taught in modern foreign languages.

(c) Quality of faculty and academic resources. The Secretary reviews each application to determine one or more of the following:

(1) The extent to which the institution employs faculty with strong language, area, and international studies credentials related to the proposed allocation of fellowships, including enough qualified tenured and tenure-track faculty with teaching and advising responsibilities to enable the applicant to carry out the instructional and training programs in the applicant's area of focus.

(2) The extent to which the applicant provides or will provide students who will be served by the proposed allocation of fellowships with substantive academic and career advising services that address the potential uses of their foreign language and area studies knowledge and training.

(3) The extent to which the institution's library holdings (print and non-print, physical and digital, English and foreign language), other research collections, and relevant staff support those who will be served by the proposed allocation of fellowships.

(4) The extent to which the applicant has established formal arrangements for students to conduct research or study abroad relevant to the proposed allocation of fellowships and the extent to which these arrangements are used.

(d) Project design and rationale. The Secretary reviews each application to determine one or more of the following:

(1) The extent to which the proposed allocation of fellowships aligns with the applicant's educational programs, instructional resources, and language and area studies course offerings; and the ease of access to relevant instruction and training opportunities, including training from external providers.

(2) The applicant's record of placing students into post-graduate employment, education, or training in areas of national need and the applicant's efforts to increase the number of such students that go into such placement.

(3) The extent to which the allocation of fellowships will contribute to meeting national needs related to language and area studies expertise and support the generation of information for and dissemination of information to the public.

(4) The extent to which the proposed project will reflect diverse perspectives, as defined in part 655, and a wide range of views and generate debate on world regions and international affairs.

(e) Project planning and budget. The Secretary reviews each application to determine one or more of the following:

(1) The extent to which the process for selecting fellows is thoroughly described and of high quality, including the institution-wide fellowship recruitment and advertisement process, the student application process, the FLAS Fellowships Program selection criteria and priorities, any supplemental institutional requirements consistent with the FLAS Fellowships Program requirements, the composition of the institution's selection committee, and the timeline for selecting and notifying students.

(2) The extent to which the institution requesting an allocation of fellowships identifies barriers, if any, to equitable access to and participation in the FLAS Fellowships Program and how the institution proposes to address these barriers.

(3) The extent to which the requested amount and proposed distribution of the allocation of fellowships is reasonable relative to the potential pool of eligible students with a demonstrated interest in relevant modern foreign language and area studies training and instruction.

(f) Quality of project evaluation. The Secretary reviews each application to determine one or more of the following:

(1) The extent to which the methods of evaluation are thorough, feasible, and appropriate to the proposed project.

(2) The extent to which the methods of evaluation will provide performance feedback and permit periodic assessment of progress toward achieving intended outcomes.

(3) The qualifications, including relevant training, experience, and independence, of the evaluator(s).

§ 657.22 What priorities may the Secretary establish?

(a) The Secretary may establish one or more of the following priorities for the allocation of fellowships:

(1) Instruction, training, or research in specific languages or all languages related to specific world areas.

(2) Programs of language instruction with stated performance goals for functional foreign language use or that are developing such performance goals.

(3) Instruction, training, or research related to specific world areas.

(4) Academic terms, such as academic year or summer.

(5) Levels of language offerings.

(6) Academic disciplines, such as linguistics or sociology.

(7) Professional studies, such as business, law, or education.

(8) Instruction, training, or research in particular subjects, such as population growth and planning or international trade and business.

(9) Specific areas of national need for expertise in foreign languages and world areas derived from the consultation with Federal agencies on areas of national need.

(10) A combination of any of these categories.

(b) The Secretary announces any priorities in the application notice published in the Federal Register.

Subpart D—What conditions must be met by institutional grantees and fellows?

§ 657.30 What are the limitations on fellowships and the use of fellowship funds?

(a) Distance or online education. Fellows may satisfy course requirements through instruction offered in person or, with the Secretary's prior approval, via distance education or hybrid formats. Correspondence courses do not satisfy program course requirements.

(b) Duration and purpose. An approved Center or Program may award a fellowship for any of the following combinations of duration and purpose:

(1) One academic year, provided that the fellow enrolls in one language course per term and at least two area studies courses per year.

(2) One academic year for dissertation research abroad, provided that the fellow is a doctoral candidate, uses advanced training in at least one modern foreign language in the research, and has a work plan approved by the Secretary.

(3) One academic year for dissertation writing, provided that the fellow is a doctoral candidate, uses advanced training in at least one modern foreign language for the dissertation, and has a work plan approved by the Secretary.

(4) One summer session if the summer session provides the fellow with the equivalent of one academic year of instruction in a modern foreign language.

(5) Other durations approved by the Secretary to accommodate exceptional circumstances that would enable a fellow to complete an appropriate amount of coursework, dissertation writing, or dissertation research.

(c) Internships. The Secretary may approve the use of a fellowship to support an internship for an eligible fellow.

(d) Program administration costs. This program does not allow administrative expenses.

(e) Selection of fellowship recipients. Approved Centers or Programs must select students to receive fellowships using the selection process described in the grant application submitted to the Department, or using any subsequent modifications to the selection process that have been approved by the Secretary.

(f) Study outside the United States. Before awarding a fellowship for use outside the United States, an institution must obtain the approval of the Secretary. The Secretary may approve the use of a fellowship outside the United States if the student is—

(1) Enrolled in an educational program abroad, approved by the institution at which the student is enrolled in the United States, for study of a foreign language at an intermediate or advanced level or at the beginning level if appropriate equivalent instruction is not available in the United States; or

(2) Engaged during the academic year in research that cannot be done effectively in the United States and is affiliated with an institution of higher education or other appropriate organization in the host country.

(g) Support from other Federal agencies. Recipients of fellowships under this part may accept concurrent awards from other Federal agencies such as Boren Fellowships and Critical Language Scholarships, provided that the other Federal awards are not used to pay for the same activity or cost allocated to the recipient's fellowship.

(h) Transfer of funds. Institutions may not transfer funds from their allocation of fellowships to any outside entity, including other approved Centers or Programs, unless the funds are transferred directly to an instructional program provider to cover the costs for the institution's own fellows to attend training programs carried out by the instructional program provider during the academic year or a summer session. The transfer of funds to any instructional program providers located outside the United Stated must be pre-approved by the Secretary.

(i) Undergraduate travel. No funds may be expended under this part for undergraduate travel except in accordance with rules prescribed by the Secretary setting forth policies and procedures to assure that Federal funds made available for such travel are expended as part of a formal program of supervised study.

(j) Vacancies. If a fellow vacates a fellowship before the end of an award period, the institution receiving the allocation of fellowships may award the balance of the fellowship to another student if—

(1) The student meets the eligibility requirements in § 657.4 and was selected in accordance with paragraph (e) of this section;

(2) The remaining fellowship period comprises at least one full academic quarter, semester, trimester, or summer session; and

(3) The amount of available funds is sufficient to award a full fellowship for the duration described in paragraph (j)(2) of this section.

§ 657.31 What is the payment procedure for fellowships?

(a) An institution must award a stipend to fellowship recipients.

(b) An institution must pay the stipend and any other allowances to the fellow in installments during the term of the academic year fellowship.

(c) An institution may make a payment only to a fellow who is in good standing and is making satisfactory progress.

(d) The institution must make appropriate adjustments of any overpayment or underpayment to a fellow.

(e) Any payments made for less than the full duration of a fellowship must be prorated to reflect the actual duration of the fellowship.

§ 657.32 Under what circumstances must an institution terminate a fellowship?

An institution must terminate a fellowship if—

(a) The fellow is not making satisfactory progress, is no longer enrolled, or is no longer in good standing at the institution; or

(b) The fellow fails to follow the course of study in modern foreign language and area studies, for which the fellow applied, unless a revised course of study is otherwise approved under this part.

§ 657.33 What are the reporting requirements for grantee institutions and for individual fellows who receive funds under this program?

Each institution of higher education, each member in a consortium of institutions of higher education, and each individual fellowship recipient under this program must submit performance reports, in such form and at such time as required by the Secretary.

(Authority: 20 U.S.C. 1132-3)

[FR Doc. 2024-03149 Filed 2-21-24; 8:45 am]

BILLING CODE 4000-01-P